DEPARTMENT OF TRANSPORTATION

Federal Transit Administration

FTA Fiscal Year 2008 Apportionments and Allocations and Program Information

AGENCY: Federal Transit Administration (FTA), DOT.

ACTION: Notice.

SUMMARY: Division K of the “Consolidated Appropriations Act, 2008” (Pub. L. 110-161), signed into law by President Bush on December 26, 2007, makes funds available for all of the surface transportation programs of the Department of Transportation (DOT) for the Fiscal Year (FY) ending September 30, 2008. This notice provides information on the FY 2008 funding available for the Federal Transit Administration (FTA) assistance programs, and provides program guidance and requirements, and information on several program issues important in the current year. The notice also includes tables that show certain discretionary programs unobligated funding from previous years that will be available in FY 2008.

FOR FURTHER INFORMATION CONTACT: For general information about this notice contact Mary Martha Churchman, Director, Office of Transit Programs, at (202) 366-2053. Please contact the appropriate FTA regional office for any specific requests for information or technical assistance. The Appendix at the end of this notice includes contact information for FTA regional offices. An FTA headquarters contact for each major program area is also included in the discussion of that program in the text of the notice.

SUPPLEMENTARY INFORMATION:

Table of Contents

I. Overview

II. FY 2008 Funding for FTA Programs

A. Fiscal Year 2008 Funding Based on Consolidated Appropriations Act, 2008 and Safe, Accountable, Flexible, Efficient Transportation Equity Act: A Legacy for Users (SAFETEA-LU)

B. Program Funds Set-Aside for Oversight

III. FY 2008 FTA Key Program Initiatives and Changes

A. SAFETEA-LU Implementation

B. Planning Emphasis Areas

C. Earmarks and Competitive Grant Opportunities

D. Changes in Flexible Funding Procedures

E. Changes in Match for Biodiesel Vehicles and Hybrid Retrofits

F. National Transit Database (NTD) Strike Policy

IV. FTA Programs

A. Metropolitan Planning Program (49 U.S.C. 5303)

B. Statewide Planning Program (49 U.S.C. 5304)

C. Urbanized Area Formula Program (49 U.S.C. 5307)

D. Clean Fuels Grant Program (49 U.S.C. 5308)

E. Capital Investment Program (49 U.S.C. 5309)—Fixed Guideway Modernization

F. Capital Investment Program (49 U.S.C. 5309)—Bus and Bus-Related Facilities

G. Capital Investment Program (49 U.S.C. 5309)—New Starts

H. Special Needs of Elderly Individuals and Individuals With Disabilities Program (49 U.S.C. 5310)

I. Nonurbanized Area Formula Program (49 U.S.C. 5311)

J. Rural Transportation Assistance Program (49 U.S.C. 5311(b)(3))

K. Public Transportation on Indian Reservation Program (49 U.S.C. 5311(c))

L. National Research Program (49 U.S.C. 5314)

M. Job Access and Reverse Commute Program (49 U.S.C. 5316)

N. New Freedom Program (49 U.S.C. 5317)

O. Alternative Transportation in Parks and Public Lands (49 U.S.C. 5320)

P. Alternatives Analysis Program (49 U.S.C. 5339)

Q. Growing States and High Density States Formula Factors (49 U.S.C. 5340)

R. Over-the-Road Bus Accessibility Program (49 U.S.C. 5310 note)

V. FTA Policy and Procedures for FY 2008 Grants Requirements

A. Automatic Pre-Award Authority To Incur Project Costs

B. Letter of No Prejudice (LONP) Policy

C. FTA FY 2008 Annual List of Certifications and Assurances

D. FHWA Funds Used for Transit Purposes

E. Grant Application Procedures

F. Payments

G. Oversight

H. Technical Assistance

Tables

1. FTA FY 2008 APPROPRIATIONS AND APPORTIONMENTS FOR GRANT PROGRAMS

2. FTA FY 2008 SECTION 5303 METROPOLITAN TRANSPORTATION PLANNING PROGRAM AND SECTION 5304 STATEWIDE TRANSPORTATION PLANNING PROGRAM APPORTIONMENTS

3. FTA FY 2008 SECTION 5307 AND SECTION 5340 URBANIZED AREA APPORTIONMENTS

4. FTA FY 2008 SECTION 5307 APPORTIONMENT FORMULA

5. FTA FY 2008 FORMULA PROGRAMS APPORTIONMENTS DATA UNIT VALUES

6. FTA FY 2008 SMALL TRANSIT INTENSIVE CITIES PERFORMANCE DATA AND APPORTIONMENTS

7. FTA FY 2008 SECTION 5308 CLEAN FUELS PROGRAM ALLOCATIONS

8. FTA PRIOR YEAR UNOBLIGATED SECTION 5308 CLEAN FUELS ALLOCATIONS

9. FTA FY 2008 SECTION 5309 FIXED GUIDEWAY MODERNIZATION APPORTIONMENTS

10. FTA FY 2008 FIXED GUIDEWAY MODERNIZATION PROGRAM APPORTIONMENT FORMULA

11. FTA FY 2008 SECTION 5309 BUS AND BUS-RELATED ALLOCATIONS

12. FTA PRIOR YEAR UNOBLIGATED SECTION 5309 BUS AND BUS-RELATED FACILITIES ALLOCATIONS AS OF SEPTEMBER 30, 2007

13. FTA FY 2008 SECTION 5309 NEW STARTS ALLOCATIONS

14. FTA PRIOR YEAR UNOBLIGATED SECTION 5309 NEW STARTS ALLOCATIONS

15. FTA FY 2008 SPECIAL NEEDS FOR ELDERLY INDIVIDUALS AND INDIVIDUALS WITH DISABILITIES APPORTIONMENTS

16. FTA FY 2008 SECTION 5311 AND SECTION 5340 NONURBANIZED APPORTIONMENTS, AND SECTION 5311(b)(3) RURAL TRANSIT ASSISTANCE PROGRAM (RTAP) APPORTIONMENTS

17. FTA FY 2008 NATIONAL RESEARCH PROGRAM ALLOCATIONS

18. FTA FY 2008 SECTION 5316 JOB ACCESS AND REVERSE COMMUTE (JARC) APPORTIONMENTS

19. FTA PRIOR YEAR UNOBLIGATED JOB ACCESS AND REVERSE COMMUTE ALLOCATIONS

20. FTA FY 2008 SECTION 5317 NEW FREEDOM APPORTIONMENTS

21. FTA PRIOR YEAR UNOBLIGATED SECTION 5339 ALTERNATIVE ANALYSIS ALLOCATIONS

Appendix

I. Overview

This document apportions or allocates the FY 2008 funds available under Division K of the Consolidated Appropriations Act, 2008 (Pub. L. 110-161, December 26, 2007), among potential program recipients according to statutory formulas in 49 U.S.C. Chapter 53 or congressional designations in Safe, Accountable, Flexible, Efficient Transportation Equity Act: A Legacy for Users (SAFETEA-LU). The notice does not include allocations of projects designated bus category funds or alternative analysis funds in the committee reports accompanying the FY 2008 Consolidated Appropriations Act. It also does not include extended or redirected project funds identified in those reports or the most recent congressional clarification letter dated December 19, 2007. FTA will issue a supplemental notice at a later date regarding these projects.

For each FTA program included in this notice, we have provided relevant information on the FY 2008 funding currently available, program requirements, period of availability, and other related program information and highlights, as appropriate. A separate section of the document provides information on program requirements and guidance that are applicable to all FTA programs.

II. FY 2008 Funding for FTA Programs

A. Funding Based on Division K of the Consolidated Appropriations Act, 2008 (Pub. L. 110-161, December 26, 2007) and SAFETEA-LU Authorization

Division K of the Consolidated Appropriations Act, 2008 (Pub. L. 110-161, December 26, 2007); hereafter called the Consolidated Appropriations Act, 2008, provides general funds and obligation authority for trust funds that total $9.5 billion for FTA programs, through September 30, 2008. Table 1 of this document shows the funding for the FTA programs, as provided for in the Consolidated Appropriations Act, 2008, and the reallocation to the programs of any prior year unobligated funds. All Formula Programs and the section 5309 Bus and Bus Facilities Program are funded entirely from the Mass Transit Account of the Highway Trust Fund in FY 2008. The section 5309 New Starts program, the Research program, and FTA administrative expenses are funded by appropriations from the General Fund of the Treasury.

Congress has enacted a full year Consolidated Appropriations Act, 2008. This Federal Register notice includes tables of apportionments and allocations for FTA programs based on that Act. Allocations based on SAFETEA-LU are also included for some discretionary programs. In addition, at a later date, FTA may allocate remaining discretionary funds not earmarked in SAFETEA-LU or that were designated in the report accompanying the Consolidated Appropriations Act, 2008.

B. Program Funds Set-Aside for Project Management Oversight

FTA uses a percentage of funds appropriated to certain FTA programs for program oversight activities conducted by the agency. The funds are used to provide necessary oversight activities, including oversight of the construction of any major capital project under these statutory programs; to conduct safety and security, civil rights, procurement, management, planning certification reviews, financial reviews and audits, as well as evaluations and analyses of grantee specific problems and issues; and to provide technical assistance to correct deficiencies identified in compliance reviews and audits.

Section 5327 of title 49 U.S.C., authorizes the takedown of funds from FTA programs for project management oversight. Section 5327 provides oversight takedowns at the following levels: 0.5 percent of Planning funds, 0.75 percent of Urbanized Area Formula funds, 1 percent of Capital Investment funds, 0.5 percent of Special Needs of Elderly Individuals and Individuals with Disabilities formula funds, 0.5 percent of Nonurbanized Area Formula funds, and 0.5 percent of Alternative Transportation in the Parks and Public Lands funds.

III. FY 2008 FTA Program Initiatives and Changes

A. SAFETEA-LU Implementation

In FY 2008, FTA continues to focus on implementation of SAFETEA-LU through issuance of new and revised program guidance and regulations. Before any documents that place binding obligations on grantees are finalized and issued, FTA makes them available for public comment. We encourage grantees to regularly check the FTA Web site at http://www.fta.dot.gov and the U.S. Government docket management Web site at http://regulations.gov for new issuances and to comment to the docket established for each document on relevant issues.

B. Planning Emphasis Areas

In recognition of the priority planning organizations and grantees are giving to the implementation of the new and changed provisions of SAFETEA-LU, FTA and the Federal Highway Administration (FHWA) are not issuing new planning emphasis areas for FY 2008, and have rescinded planning emphasis areas from prior years.

C. Earmarks and Competitive Grant Opportunities

SAFETEA-LU contained statutory earmarks under several programs, and these are listed in the tables in this Notice. FTA will honor the statutory earmarks. In addition, this notice includes tables of unobligated balances for earmarks from previous years under the Bus and Bus Facilities Program, the New Starts Program, the Clean Fuels Program, and the Alternatives Analysis Program. FTA will continue to honor those earmarks. FTA will supplement this notice, at a later date, to provide any additional discretionary allocations of funds made available in FY 2008 and any prior year earmarks that FTA determines to extend or reprogram based on language in the report that accompanied the Consolidated Appropriations Act, 2008, or the Congressional clarification letter of December 19, 2007, once the Department has examined the requests.

D. Changes in Flexible Funding Procedures

Obligation authority for flexible funds, high priority projects and other transit projects in Title 23 U.S.C. is transferred to FTA when it is determined that FTA will administer the project. The liquidating cash, however, is transferred between Federal accounts only as needed to ensure that adequate funds are available for disbursement on a timely basis. In order to track the cash flow more closely, FTA no longer combines funds transferred from FHWA into a single grant with FTA funds in the program to which they are transferred. FTA has established codes and procedures for grants involving funds transferred from FHWA. Grantees can contact the appropriate regional office for assistance.

E. Changes in Match for Biodiesel Vehicles and Hybrid Retrofits

Section 164 of the Consolidated Appropriations Act, 2008, allows a 90 percent Federal share for biodiesel buses and for the net capital cost of factory-installed or retrofitted hybrid electric propulsion systems and any equipment related to such a system. This increased federal share is a cross-cutting provision and is applicable across FTA programs for any grants awarded during FY 2008 regardless of what fiscal year funding is used. Grantees may apply for a 90 percent Federal share for the entire cost of a biodiesel bus, but only for the cost of the propulsion system and related equipment in the case of the hybrid electric systems, not for 90 percent of the cost of the entire vehicle. In lieu of calculating the costs of the equipment separately, grantees may apply for 83 percent of the cost of the vehicle.

F. National Transit Database (NTD) Strike Policy

It has previously been FTA's policy not to make adjustments to the NTD data used for the apportionment of urbanized area formula grants for purposes of offsetting the effects of strikes, labor disputes, or work stoppages. FTA has changed this policy, retroactive to NTD Report Year (RY) 2005 data. FTA will now make “hold harmless” adjustments in the NTD data used for the apportionment of urbanized area formula grants to offset the effects of strikes, labor disputes, or work stoppages. One agency received such an adjustment to their RY 2006 NTD data for use in the FY 2008 apportionment. Any other agency that has had a valid strike, labor dispute or work stoppage during RY 2005, RY 2006, or RY 2007 may request an adjustment to their RY 2007 data for use in the FY 2009 apportionment. Agencies experiencing a valid strike, labor dispute, or work stoppage in subsequent years must file a request for such an adjustment along with their NTD submission for that year.

Instructions for requesting a “hold harmless” adjustment can be found in the 2007 NTD Reporting Manual, available at http://www.ntdprogram.gov, under the section on “Waivers.”

IV. FTA Programs

This section of the notice provides available FY 2008 funding and other important program-related information for the three major FTA funding accounts included in the notice (Formula and Bus Grants, Capital Investment Grants, and Research). Of the 17 separate FTA programs contained in this notice that fall under the major program area headings, the funding for ten is apportioned by statutory or administrative formula. Funding for the other seven is allocated on a discretionary or competitive basis.

Funding and other important information for each of the 17 programs is presented immediately below. This includes program apportionments or allocations, certain program requirements, length of time FY 2008 funding is available to be obligated, and other significant program information pertaining to FY 2008, including the availability of competitive opportunities under several programs.

A. Metropolitan Planning Program (49 U.S.C. 5303) (Table 2)

Section 5305(d) authorizes federal funding to support a cooperative, continuous, and comprehensive planning program for transportation investment decision-making at the metropolitan area level. The specific requirements of metropolitan transportation planning are set forth in 49 U.S.C. 5303 and further explained in 23 CFR Part 450 as referenced in 49 CFR Part 613. State Departments of Transportation are direct recipients of funds, which are then allocated to Metropolitan Planning Organizations (MPOs) by formula, for planning activities that support the economic vitality of the metropolitan area, especially by enabling global competitiveness, productivity, and efficiency; increasing the safety and security of the transportation system for motorized and non-motorized users; increasing the accessibility and mobility options available to people and for freight; protecting and enhancing the environment, promoting energy conservation, and improving quality of life; enhancing the integration and connectivity of the transportation system, across and between modes, for people and freight; promoting efficient system management and operation; and emphasizing the preservation of the existing transportation system. For more about the Metropolitan Planning Program, contact Candace Noonan, Office of Planning and Environment at (202) 366-1648.

1. FY 2008 Funding Availability

The Consolidated Appropriations Act, 2008, provides $88,510,400 to the Metropolitan Planning Program (49 U.S.C. 5305(d) to support metropolitan transportation planning activities set forth in 49 U.S.C. 5303. The total amount apportioned for the Metropolitan Planning Program (to States for MPOs' use in urbanized areas (UZAs) is $88,229,721, as shown in the table below, after the deduction for oversight and the addition of prior year reapportioned funds.

Metropolitan Transportation Planning Program
Total Appropriation | $88,510,400
Oversight Deduction | −442,552
Prior Year Funds Added | 161,873
Total Apportioned | 88,229,721

States' apportionments for this program are displayed in Table 2.

2. Basis for Formula Apportionments

As specified in law, 82.72 percent of the amounts authorized for Section 5305 are allocated to the Metropolitan Planning program. FTA allocates Metropolitan Planning funds to the States according to a statutory formula. Eighty percent of the funds are distributed to the States as a basic allocation based on each State's UZA population, based on the most recent decennial Census. The remaining 20 percent is provided to the States as a supplemental allocation based on an FTA administrative formula to address planning needs in the larger, more complex UZAs. The amount published for each State is a combined total of both the basic and supplemental allocation.

3. Program Requirements

The State allocates Metropolitan Planning funds to MPOs in UZAs or portions thereof to provide funds for projects included in an annual work program (the Unified Planning Work Program, or UPWP) that includes both highway and transit planning projects. Each State has either reaffirmed or developed, in consultation with their MPOs, a new allocation formula, as a result of the 2000 Census. The State allocation formula may be changed annually, but any change requires approval by the FTA regional office before grant approval. Program guidance for the Metropolitan Planning Program is found in FTA Circular C8100.1B, Program Guidance and Application Instructions for Metropolitan Planning Program Grants, dated October 25, 1996. FTA is in the process of updating this circular to incorporate references to the new and changed planning requirements as set forth in SAFETEA-LU and implementing regulations.

4. Period of Availability

The funds apportioned under the Metropolitan Planning program remain available to be obligated by FTA to recipients for four fiscal years which includes the year of apportionment plus three additional years. Any apportioned funds that remain unobligated at the close of business on September 30, 2011, will revert to FTA for reapportionment under the Metropolitan Planning Program.

5. Other Program or Apportionment Related Information and Highlights

a. Planning Emphasis Areas (PEAs). FTA and FHWA are not issuing new PEAs this year, and are rescinding PEAs issued in prior years, in light of the priority given to implementation of SAFETEA-LU planning and program provisions.

b. Consolidated Planning Grants. FTA and FHWA planning funds can be consolidated into a single consolidated planning grant (CPG), awarded by either FTA or FHWA. The CPG eliminates the need to monitor individual fund sources, if several have been used, and ensures that the oldest funds will always be used first. Unlike “flex funds,” State planning funds from FHWA may be combined with FTA planning funds in a single grant. Alternatively FTA planning funds can be transferred to FHWA for administration.

Under the CPG, States can report metropolitan planning expenditures (to comply with the Single Audit Act) for both FTA and FHWA under the Catalogue of Federal Domestic Assistance number for FTA's Metropolitan Planning Program (20.505). Additionally, for States with an FHWA Metropolitan Planning (PL) fund-matching ratio greater than 80 percent, the State can waive the 20 percent local share requirement, with FTA's concurrence, to allow FTA funds used for metropolitan planning in a CPG to be granted at the higher FHWA rate. For some States, this Federal match rate can exceed 90 percent.

States interested in transferring planning funds between FTA and FHWA should contact the FTA regional office or FHWA Division Office for more detailed procedures.

For further information on CPGs, contact Kristen Clarke, Office of Budget and Policy, FTA, at (202) 366-1686, or Kenneth Petty, Office of Planning and Environment, FHWA, at (202) 366-6654. For information regarding CPGs, Metropolitan planning, or Statewide planning, contact Candace Noonan, Office of Planning and Environment, FTA, at (202) 366-1646.

B. Statewide Planning Program (49 U.S.C. 5304)

This program provides financial assistance to States for Statewide transportation planning and other technical assistance activities (including supplementing the technical assistance program provided through the Metropolitan Planning program), planning support for nonurbanized areas, research, development and demonstration projects, fellowships for training in the public transportation field, university research, and human resource development. The specific requirements of Statewide transportation planning are set forth in 49 U.S.C. 5304 and further explained in 23 CFR part 450 as reference in 49 CFR part 613. For more about the Statewide Planning and Research Program contact Candace Noonan, Office of Planning and Environment, at (202) 366-1648.

1. FY 2008 Funding Availability

The Consolidated Appropriations Act, 2008, provides $18,489,600 to the Statewide Planning and Research Program (49 U.S.C. 5304). The total amount apportioned for the Statewide Planning and Research Program (SPRP) is $18,399,717, as shown in the table below, after the deduction for oversight (authorized by 49 U.S.C. 5327) and addition of prior year reapportioned funds.

Statewide Transportation Planning Program
Total Appropriation | $18,489,600
Oversight Deduction | −92,448
Prior Year Funds Added | 2,565
Total Apportioned | 18,399,717

State apportionments for this program are displayed in Table 2.

2. Basis for Apportionment Formula

As specified in law, 17.28 percent of the amounts authorized for Section 5305 are allocated to the Statewide Planning and Research program. FTA apportions funds to States by a statutory formula that is based on the most recent decennial Census, and the State's UZA population as compared to the UZA population of all States.

3. Requirements

Funds are provided to States for Statewide planning and research programs. These funds may be used for a variety of purposes such as planning, technical studies and assistance, demonstrations, management training, and cooperative research. In addition, a State may authorize a portion of these funds to be used to supplement Metropolitan Planning funds allocated by the State to its UZAs, as the State deems appropriate. Program guidance for the Statewide Planning and Research program is found in FTA Circular C8200.1, Program Guidance and Application Instructions for State Planning and Research Program Grants, dated December 27, 2001. FTA is in the process of updating this circular to incorporate the new and changed planning requirements in sections 5304 and 5305, as set forth in SAFETEA-LU and implementing regulations.

4. Period of Availability

The funds apportioned under the Statewide Planning and Research program remain available to be obligated by FTA to recipients for four fiscal years—which include the year of apportionment plus three additional fiscal years. Any apportioned funds that remain unobligated at the close of business on September 30, 2011, will revert to FTA for reapportionment under the Statewide Planning and Research Program.

5. Other Program or Apportionment Related Information and Highlights

The information about Planning Emphasis Areas and CPGs described in section A.5, above for the Metropolitan Planning Program (49 U.S.C. 5303), also applies to the Statewide Planning Program.

C. Urbanized Area Formula Program (49 U.S.C. 5307)

Section 5307 authorizes Federal capital and operating assistance, in some cases, for transit in Urbanized Areas (UZAs). A UZA is an area with a population of 50,000 or more that has been defined and designated as such in the most recent decennial Census by the U.S. Census Bureau. The Urbanized Area Formula Program funds may also be used to support planning activities, and may supplement to planning projects funded under the Metropolitan Planning program described above. Urbanized Areas Formula Program funds used for planning must be shown in the UPWP for MPO(s) with responsibility for that area. Funding is apportioned directly to each UZA with a population of 200,000 or more, and to the State Governors for UZAs with populations between 50,000 and 200,000. Eligible applicants are limited to entities designated as recipients in accordance with 49 U.S.C. 5307(a)(2) and other public entities with the consent of the Designated Recipient. Generally, operating assistance is not an eligible expense for UZAs with populations of 200,000 or more. However, there are several exceptions to this restriction. The exceptions are described in section 2 (e) below.

For more information about the Urbanized Area Formula Program contact Scott Faulk, Office of Transit Programs, at (202) 366-2053.

1. FY 2008 Funding Availability

The Consolidated Appropriations Act, 2008, provides $3,910,843,000 to the Urbanized Area Formula Program (49 U.S.C. 5307). The total amount apportioned for the Urbanized Area Formula Program is $4,259,697,438 as shown in the table below, after the 0.75 percent deduction for oversight (authorized by 49 U.S.C. 5327) and including prior year reapportioned funds and funds apportioned to UZAs from the appropriation for section 5340 for Growing States and High Density States.

Urbanized Area Formula Program
Total Appropriation | ᵃ $3,910,843,000
Oversight Deduction | −29,331,323
Prior Year Funds Added | 9,026,596
Section 5340 Funds Added | 369,159,165
Total Apportioned | 4,259,697,438
ᵃ One percent set-aside for Small Transit Intensive Cities Formula.

Table 3 displays the amounts apportioned under the Urbanized Area Formula Program.

2. Basis for Formula Apportionment

FTA apportions Urbanized Area Formula Program funds based on legislative formulas. Different formulas apply to UZAs with populations of 200,000 or more and to UZAs with populations less than 200,000. For UZAs with 50,000 to 199,999 in population, the formula is based solely on population and population density. For UZAs with populations of 200,000 and more, the formula is based on a combination of bus revenue vehicle miles, bus passenger miles, fixed guideway revenue vehicle miles, and fixed guideway route miles, as well as population and population density. Table 4 includes detailed information about the formulas.

To calculate a UZA's FY 2008 apportionment, FTA used population and population density statistics from the 2000 Census and (when applicable) validated mileage and transit service data from transit providers' 2006 National Transit Database (NTD) Report Year. Pursuant to 49 U.S.C. 5336(b), FTA used 60 percent of the directional route miles attributable to the Alaska Railroad passenger operations system to calculate the apportionment for the Anchorage, Alaska UZA.

We have calculated dollar unit values for the formula factors used in the Urbanized Area Formula Program apportionment calculations. These values represent the amount of money each unit of a factor is worth in this year's apportionment. The unit values change each year, based on all of the data used to calculate the apportionments. The dollar unit values for FY 2008 are displayed in Table 5. To replicate the basic formula component of a UZA's apportionment, multiply the dollar unit value by the appropriate formula factor (i.e., the population, population x population density), and when applicable, data from the NTD (i.e., route miles, vehicle revenue miles, passenger miles, and operating cost).

In FY 2008, one percent of funds appropriated for section 5307, $39,108,430, is set aside for Small Transit Intensive Cities (STIC). FTA apportions these funds to UZAs under 200,000 in population that operate at a level of service equal to or above the industry average level of service for all UZAs with a population of at least 200,000, but not more than 999,999, in one or more of six performance categories: passenger miles traveled per vehicle revenue mile, passenger miles traveled per vehicle revenue hour, vehicle revenue miles per capita, vehicle revenue hours per capita, passenger miles traveled per capita, and passengers per capita.

The data for these categories for the purpose of FY 2008 apportionments comes from the NTD reports for the 2006 reporting year. This data is used to determine a UZA's eligibility under the STIC formula, and is also used in the STIC apportionment calculations. Because these performance data change with each year's NTD reports, the UZAs eligible for STIC funds and the amount each receives may vary each year. In FY 2008, FTA apportioned $125,348 for each performance factor/category for which the urbanized area exceeded the national average for UZAs with a population of at least 200,000 but not more than 999,999.

In addition to the funds apportioned to UZAs, according to the section 5307 formula factors contained in 49 U.S.C. 5336, FTA also apportions funds to urbanized areas under section 5340 Growing States and High Density States formula factors. In FY 2008, FTA apportioned $150,159,165 to 453 UZA's in all 50 States and $219,000,000 to 46 UZAs in seven High Density States. Half of the funds appropriated for section 5340 are available to Growing States and half to High Density States. FTA apportions Growing States funds by a formula based on State population forecasts for 15 years beyond the most recent Census. FTA distributes the amounts apportioned for each State between UZAs and nonurbanized areas based on the ratio of urbanized/nonurbanized population within each State in the 2000 census, and to UZAs proportionately based on UZA population in the 2000 census because population estimates are not available at the UZA level. FTA apportions the High Density States funds to States with population densities in excess of 370 persons per square mile. These funds are apportioned only to UZAs within those States. FTA pro-rates each UZA's share of the High Density funds based on the population of the UZAs in the State in the 2000 census.

FTA cannot provide unit values for the Growing States or High Density formulas because the allocations to individual States and urbanized areas are based on their relative population data, rather than on a national per capita basis.

Based on language in the conference report accompanying SAFETEA-LU, FTA is to show a single apportionment amount for section 5307, STIC and section 5340. FTA shows a single section 5307 apportionment amount for each UZA in Table 3, the Urbanized Area Formula apportionments. The amount includes funds apportioned based on the section 5307 formula factors, any STIC funds, and any Growing States and High Density States funding allocated to the area. FTA uses separate formulas to calculate and generate the respective apportionment amounts for the section 5307, STIC and section 5340. For technical assistance purposes, the UZAs that received STIC funds are listed in Table 6. FTA will make available breakouts of the funding allocated to each UZA under these formulas, upon request to the regional office.

3. Program Requirements

Program guidance for the Urbanized Area Formula Program is presently found in FTA Circular C9030.1C, Urbanized Area Formula Program: Grant Application Instructions, dated October 1, 1998, and supplemented by additional information or changes provided in this document. FTA is in the process of updating the circular to incorporate changes resulting from language in SAFETEA-LU. Several important program requirements are highlighted below.

a. Urbanized Area Formula Apportionments to Governors

For small UZAs, those with a population of less than 200,000, FTA apportions funds to the Governor of each State for distribution. A single total Governor apportionment amount for the Urbanized Area Formula, STIC, and Growing States and High Density States is shown in the Urbanized Area Formula Apportionment table 3. The table also shows the apportionment amount attributable to each small UZA within the State. The Governor may determine the sub-allocation of funds among the small UZAs except that funds attributed to a small UZA that is located within the planning boundaries of a Transportation Management Area (TMA) must be obligated to that small UZA, as discussed in subsection f below.

b. Transit Enhancements

Section 5307(d)(1)(K) requires that one percent of section 5307 funds apportioned to UZAs with populations of 200,000 or more be spent on eligible transit enhancement activities or projects. This requirement is now treated as a certification, rather than as a set-aside as was the case under the Transportation Equity Act for the 21st Century (TEA-21). Designated recipients in UZAs with populations of 200,000 or more certify they are spending not less than one percent of section 5307 funds for transit enhancements. In addition, Designated Recipients must submit an annual report on how they spent the money with the Federal fiscal year's final quarterly progress report in TEAM-Web. The report should include the following elements: (a) Grantee name; (b) UZA name and number; (c) FTA project number; (d) transit enhancement category; (e) brief description of enhancement and progress towards project implementation; (f) activity line item code from the approved budget; and (g) amount awarded by FTA for the enhancement. The list of transit enhancement categories and activity line item (ALI) codes may be found in the table of Scope and ALI codes on TEAM-Web, which can be accessed at http://FTATEAMWeb.fta.dot.gov.

The term “transit enhancement” includes projects or project elements that are designed to enhance public transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one-percent for transit enhancements will be allotted to transit projects. The one percent minimum requirement does not preclude more than one percent from being expended in a UZA for transit enhancements. However, activities that are only eligible as enhancements—in particular, operating costs for historic facilities—may be assisted only within the one-percent funding level.

c. Transit Security Projects

Pursuant to section 5307(d)(1)(J), each recipient of Urbanized Area Formula funds must certify that of the amount received each fiscal year, it will expend at least one percent on “public transportation security projects” or must certify that it has decided the expenditure is not necessary. For applicants not eligible to receive section 5307 funds for operating assistance, only capital security projects may be funded with the one percent. SAFETEA-LU, however, expanded the definition of eligible “capital” projects to include specific crime prevention and security activities, including: (1) Projects to refine and develop security and emergency response plans; (2) projects aimed at detecting chemical and biological agents in public transportation; (3) the conduct of emergency response drills with public transportation agencies and local first response agencies; and (4) security training for public transportation employees, but excluding all expenses related to operations, other than such expenses incurred in conducting emergency drills and training. ALI codes have been established for these four new capital activities. The one percent may also include security expenditures included within other capital activities, and, where the recipient is eligible, operating assistance. The relevant ALI codes would be used for those activities.

FTA is often called upon to report to Congress and others on how grantees are expending Federal funds for security enhancements. To facilitate tracking of grantees' security expenditures, which are not always evident when included within larger capital or operating activity line items in the grant budget, we have established a non-additive (“non-add”) scope code for security expenditures— Scope 991. The non-add scope is to be used to aggregate activities included in other scopes, and it does not increase the budget total. Section 5307 grantees should include this non-add scope in the project budget for each new section 5307 grant application or amendment. Under this non-add scope, the applicant should repeat the full amount of any of the line items in the budget that are exclusively for security and include the portion of any other line item in the project budget that is attributable to security, using under the non-add scope the same line item used in the project budget. The grantee can modify the ALI description or use the extended text feature, if necessary, to describe the security expenditures.

The grantee must provide information regarding its use of the one percent for security as part of each section 5307 grant application, using a special screen in TEAM-Web. If the grantee has certified that it is not necessary to expend one percent for security, the section 5307 grant application must include information to support that certification. FTA will not process an application for a section 5307 grant until the security information is complete.

d. FY 2008 Operating Assistance

UZAs under 200,000 in population may use section 5307 funds for operating assistance. In addition, section 5307, as amended by, SAFETEA-LU and TEA-21, allows some UZAs with a population of 200,000 or more to use FY 2008 Urbanized Area Formula funds for operating assistance under certain conditions. The specific provisions allowing the limited use of operating assistance in large UZAs are as follows:

(1) Section 5307(b)(1)(E) provides for grants for the operating costs of equipment and facilities for use in public transportation in the Evansville, IN-KY urbanized area, for a portion or portions of the UZA if the portion of the UZA includes only one State, the population of the portion is less than 30,000, and the grants will not be used to provide public transportation outside of the portion of the UZA.

(2) Section 5307(b)(1)(F) provides operating costs of equipment and facilities for use in public transportation for local governmental authorities in areas which adopted transit operating and financing plans that became a part of the Houston, Texas UZA as a result of the 2000 decennial census of population, but lie outside the service area of the principal public transportation agency that serves the Houston UZA.

(3) Section 5336(a)(2) prescribes the formula to be used to apportion section 5307 funds to UZAs with population of 200,000 or more. SAFETEA-LU amended 5336(a)(2) to add language that stated, “* * * except that the amount apportioned to the Anchorage urbanized area under subsection (b) shall be available to the Alaska Railroad for any costs related to its passenger operations.” This language has the effect of directing that funds apportioned to the Anchorage urbanized area, under the fixed guideway tiers of the section 5307 apportionment formula, be made available to the Alaska Railroad, and that these funds may be used for any capital or operating costs related to its passenger operations.

(4) Section 3027(c)(3) of TEA-21, as amended (49 U.S.C. 5307 note), provides an exception to the restriction on the use of operating assistance in a UZA with a population of 200,000 or more, by allowing transit providers/grantees that provide service exclusively to elderly persons and persons with disabilities and that operate 20 or fewer vehicles to use section 5307 funds apportioned to the UZA for operating assistance. The total amount of funding made available for this purpose under section 3027(c)(3) is $1.4 million. Transit providers/grantees eligible under this provision have already been identified and notified.

In previous years, section 5307(b)(2) allowed UZAs that grew in population from under 200,000 to over 200,000, as a result of the 2000 Census to use section 5307 funds for operating assistance in an amount up to 25 percent of the grandfathered amount for FY 2005 funds. This provision was effective during FY 2006 and FY 2007 and completely phased out at the end of FY 2007.

e. Sources of Local Match

Pursuant to section 5307(e), the Federal share of an urbanized area formula grant is 80 percent of net project cost for a capital project and 50 percent of net project cost for operating assistance unless the recipients project a greater local share. The remainder of the net project cost (i.e., 20 percent and 50 percent, respectively) shall be provided from the following sources:

1. In cash from non-Government sources other than revenues from providing public transportation services;

2. From revenues derived from the sale of advertising and concessions;

3. From an undistributed cash surplus, a replacement or depreciation cash fund or reserve, or new capital;

4. From amounts received under a service agreement with a State or local social service agency or private social service organization; and

5. Proceeds from the issuance of revenue bonds.

In addition, funds from section 403(a)(5)(C)(vii) of the Social Security Act (42 U.S.C. 603(a)(5)(C)(vii)) can be used to match Urbanized Area Formula funds.

f. Designated Transportation Management Areas (TMA)

Guidance for setting the boundaries of TMAs is in the joint transportation planning regulations codified at 23 CFR part 450 as reference in 49 CFR Part 613. In some cases, the TMA planning boundaries established by the MPO for the designated TMA includes one or more small UZAs. In addition, one small UZA (Santa Barbara, CA) has been designated as a TMA. In either of these situations, the Governor cannot allocate “Governor's Apportionment” funds attributed to the small UZAs to other areas; that is, the Governor only has discretion to allocate Governor's Apportionment funds attributable to areas that are outside of designated TMA planning boundaries.

The list of small UZAs included within the planning boundaries of designated TMAs is provided in the table below.

The MPO must notify the Associate Administrator for Program Management, Federal Transit Administration, 1200 New Jersey Avenue, SE., Washington, DC 20590, in writing, no later than July 1 of each year, to identify any small UZA within the planning boundaries of a TMA.

g. Urbanized Area Formula Funds Used for Highway Purposes

Funds apportioned to a TMA are eligible for transfer to FHWA for highway projects, if the Designated Recipient has allocated a portion of the areas section 5307 funding for such use. However, before funds can be transferred, the following conditions must be met: (1) Such use must be approved by the MPO in writing, after appropriate notice and opportunity for comment and appeal are provided to affected transit providers; (2) in the determination of the Secretary, such funds are not needed for investments required by the Americans with Disabilities Act of 1990 (ADA); and (3) the MPO determines that local transit needs are being addressed.

The MPO should notify the appropriate FTA Regional Administrator of its intent to use FTA funds for highway purposes, as prescribed in section V.D below. Urbanized Area Formula funds that are designated by the MPO for highway projects will be transferred to and administered by FHWA.

4. Period of Availability

The Urbanized Area Formula Program funds apportioned in this notice remain available to be obligated by FTA to recipients until September 30, 2011. Any of these apportioned funds that remain unobligated at the close of business on September 30, 2011, will revert to FTA for reapportionment under the Urbanized Area Formula Program.

5. Other Program or Apportionment Related Information and Highlights

In each UZA with a population of 200,000 or more, the Governor in consultation with responsible local officials, and publicly owned operators of public transportation has designated one or more entities to be the Designated Recipient for section 5307 funds apportioned to the UZA. The same entity(s) may or may not be the Designated Recipient for the Job Access and Reverse Commute (JARC) and New Freedom program funds apportioned to the UZA. In UZAs under 200,000 in population, the State is the Designated Recipient for section 5307 as well as JARC and New Freedom programs. The Designated Recipient for section 5307 may authorize other entities to apply directly to FTA for section 5307 grants pursuant to a supplemental agreement. While the requirement that projects selected for funding be included in a locally developed coordinated public transit/human service transportation plan is not included in section 5307 as it is in sections 5310, 5316 (JARC) and 5317 (New Freedom), FTA expects that in their role as public transit providers, recipients of section 5307 funds will be participants in the local planning process for these programs.

D. Clean Fuels Grant Program (49 U.S.C. 5308)

The Clean Fuels Grant Program supports the use of alternative fuels in air quality maintenance or nonattainment areas for ozone or carbon monoxide through capital grants to urbanized areas for clean fuel vehicles and facilities. Previously an unfunded Formula Program under TEA-21, the program is now a discretionary program. For more information about this program contact Kimberly Sledge, Office of Transit Programs, at (202) 366-2053.

1. FY 2008 Funding Availability

The Consolidated Appropriations Act, 2008, provides $49,000,000 to the Clean Fuels Grant Program (49 U.S.C. 5308). SAFETEA-LU earmarked $20,247,000 for specific Clean Fuel projects. The balance of $28,753,000 will be awarded competitively. FTA will determine projects to be funded under the program at a later date.

Clean Fuels Grant Program
Total Appropriation | $49,000,000
Funds Allocated to SAFETEA-LU Earmarks | 20,247,000
Unallocated Funds Available for Discretionary/Competitive Allocation | 28,753,000

Allocations to projects earmarked under the Clean Fuels program in SAFETEA-LU are displayed in Table 7.

2. Basis for Allocation of Funds

Section 3044(b) of SAFETEA-LU included 16 projects to be funded through the Clean Fuels program. Table 7 displays the amounts available in FY 2008 to the Clean Fuels projects designated in SAFETEA-LU. FY 2006 and FY 2007 carryover funds are shown in Table 8.

3. Requirements

FTA published a final rule on March 30, 2007, which revised regulations found at 49 CFR part 624. Clean Fuels program funds may be made available to any grantee in a UZA that is designated as maintenance or nonattainment area for ozone or carbon monoxide as defined in the Clean Air Act. Eligible recipients include section 5307 Designated Recipients as well as recipients in small UZAs. In the case of a small UZA, the State in which the area is located will act as the recipient.

Eligible projects include the purchase or lease of clean fuel buses (including buses that employ a lightweight composite primary structure), the construction or lease of clean fuel buses or electrical recharging facilities and related equipment for such buses, and construction or improvement of public transportation facilities to accommodate clean fuel buses.

Legislation will be necessary if a recipient wishes to use Clean Fuels funds earmarked in SAFETEA-LU for eligible program activities outside the scope of a project description.

Unless otherwise specified in law, grants made under the Clean Fuels program must meet all other eligibility requirements as outlined in section 5308.

4. Period of Availability

Funds designated for specific Clean Fuels Program projects remain available for obligation for three fiscal years, which includes the year of appropriation plus two additional fiscal years. The FY 2008 funding for projects included in this notice remains available through September 30, 2010. Clean Fuels funds not obligated in an FTA grant for their original purpose at the end of the period of availability will generally be made available for other projects.

5. Other Program or Allocation Related Information and Highlights

Prior year unobligated balances for Clean Fuel allocations in the amount of $19,576,930 remain available for obligation in FY 2008. This includes $5,352,930 in FY 2006 and $14,224,000 in FY 2007 unobligated allocations. The unobligated amounts available as of September 30, 2007, are displayed in Table 8.

E. Capital Investment Program (49 U.S.C. 5309)—Fixed Guideway Modernization

This program provides capital assistance for the modernization of existing fixed guideway systems. Funds are allocated by a statutory formula to UZAs with fixed guideway systems that have been in operation for at least seven years. A “fixed guideway” refers to any transit service that uses exclusive or controlled rights-of-way or rails, entirely or in part. The term includes heavy rail, commuter rail, light rail, monorail, trolleybus, aerial tramway, inclined plane, cable car, automated guideway transit, ferryboats, that portion of motor bus service operated on exclusive or controlled rights-of-way, and high-occupancy-vehicle (HOV) lanes. Eligible applicants are the public transit authorities in those urbanized areas to which the funds are allocated. For more information about Fixed Guideway Modernization contact Scott Faulk, Office of Transit Programs, at (202) 366-2053.

1. FY 2008 Funding Availability

The Consolidated Appropriations Act, 2008, provides $1,570,000,000 to the Fixed Guideway Modernization Program. The total amount apportioned for the Fixed Guideway Modernization Program is $1,554,627,028, after the deduction for oversight, and addition of prior year reapportioned funds, as shown in the table below.

Fixed Guideway Modernization Program
Total Appropriation | $1,570,000,000
Oversight Deduction | −15,700,000
Prior Year Funds Added | 327,028
Total Apportioned | 1,554,627,028

The FY 2008 Fixed Guideway Modernization Program apportionments to eligible areas are displayed in Table 9.

2. Basis for Formula Apportionment

The formula for allocating the Fixed Guideway Modernization funds contains seven tiers. The apportionment of funding under the first four tiers is based on amounts specified in law and NTD data used to apportion funds in FY 1997. Funding under the last three tiers is apportioned based on the latest available data on route miles and revenue vehicle miles on segments at least seven years old, as reported to the NTD. Section 5337(f) of title 49, U.S.C. provides for the inclusion of Morgantown, West Virginia (population 55,997) as an eligible UZA for purposes of apportioning fixed guideway modernization funds. Also, pursuant to 49 U.S.C. 5336(b) FTA used 60 percent of the directional route miles attributable to the Alaska Railroad passenger operations system to calculate the apportionment for the Anchorage, Alaska UZA under the section 5309 Fixed Guideway Modernization formula.

FY 2008 Formula apportionments are based on data grantees provided to the NTD for the 2006 reporting year. Table 10 provides additional information and details on the formula. Dollar unit values for the formula factors used in the Fixed Guideway Modernization Program are displayed in Table 5. To replicate an area's apportionment, multiply the dollar unit value by the appropriate formula factor, i.e., route miles and revenue vehicle miles.

3. Program Requirements

Fixed Guideway Modernization funds must be used for capital projects to maintain, modernize, or improve fixed guideway systems. Eligible UZAs (those with a population of 200,000 or more) with fixed guideway systems that are at least seven years old are entitled to receive Fixed Guideway Modernization funds. A threshold level of more than one mile of fixed guideway is required in order to receive Fixed Guideway Modernization funds. Therefore, UZAs reporting one mile or less of fixed guideway mileage under the NTD are not included. However, funds apportioned to an urbanized area may be used on any fixed guideway segment in the UZA. Program guidance for Fixed Guideway Modernization is presently found in FTA Circular C9300.1A, Capital Program: Grant Application Instructions, dated October 1, 1998. FTA is in the process of updating this circular to incorporate changes resulting from language in SAFETEA-LU. A proposed revised circular was published for public comments, which are due by January 25, 2008.

4. Period of Availability

The funds apportioned in this notice under the Fixed Guideway Modernization Program remain available to be obligated by FTA to recipients for three fiscal years following FY 2008. Any of these apportioned funds that remain unobligated at the close of business on September 30, 2011, will revert to FTA for reapportionment under the Fixed Guideway Modernization Program.

F. Capital Investment Program (49 U.S.C. 5309)—Bus and Bus-Related Facilities

This program provides capital assistance for new and replacement buses and related facilities. Funds are allocated on a discretionary basis. Eligible purposes are acquisition of buses for fleet and service expansion, bus maintenance and administrative facilities, transfer facilities, bus malls, transportation centers, intermodal terminals, park-and-ride stations, acquisition of replacement vehicles, bus rebuilds, bus preventive maintenance, passenger amenities such as passenger shelters and bus stop signs, accessory and miscellaneous equipment such as mobile radio units, supervisory vehicles, fare boxes, computers, and shop and garage equipment. Eligible applicants are State and local governmental authorities. Eligible subrecipients include other public agencies, private companies engaged in public transportation and private non-profit organizations. For more information about Bus and Bus-Related Facilities contact Maria Wright, Office of Transit Programs, at (202) 366-2053.

1. FY 2008 Funding Availability

The Consolidated Appropriations Act, 2008, provides $823,052,962 for the bus and bus facilities program. The amount of funding for projects designated in section 3044 of SAFETEA-LU for Bus and Bus-Related Facilities in FY 2008 is $497,670,593. The amount of funding for projects designated in the Consolidated Appropriations Act, 2008 is $220,599,862. The balance remains unallocated, as shown in the following table.

Bus and Bus Facility Program
Total Appropriation | $927,750,000
Ob lim. Reduction/Rescission | −104,697,038
Oversight Deduction | −8,230,530
Total Available for Allocation | 814,822,432
SAFETEA-LU Statutory Provisions Projects | 497,670,593
Consolidated Appropriations Act Designations | 220,599,862
Unallocated | 96,551,977

The FY 2008 SAFETEA-LU Allocations for the Bus and Bus Facilities are displayed in Table 11.

2. Basis for Allocations

Funds are provided annually under section 5309 for discretionary allocation for bus and bus facilities projects. SAFETEA-LU listed 646 earmarked projects to be funded each year through the Bus Program (Section 3044) and specified additional projects in Section 5309(m)(7). Table 11 displays only the allocation of the FY 2008 Bus and Bus-Related Facilities funds by State and project for projects earmarked in SAFETEA-LU. The table includes a SAFETEA-LU project number for each project listed in Section 3044. FTA will issue a supplemental notice, at a later date, regarding the projects designated in the committee reports that accompanied the Consolidated Appropriations Act.

3. Requirements

Section 125 and section 113 of the FY 2005 and FY 2006 Department of Transportation Appropriations Acts, respectively, make projects identified in the statement of managers automatically eligible to receive the funds designated to the project “notwithstanding any other provision of law.” Similar language was first included as a general provision in section 547 of the FY 2004 Department of Transportation Appropriations Act. In addition, section 3044 of SAFETEA-LU earmarked 646 Bus and Bus Facilities projects in FY 2008. FTA will review Congressional intent on a case by case basis.

FTA honors Congressional earmarks for the purpose designated, for purposes eligible under the program or under the expanded eligibility of a “notwithstanding” provision. If you want to apply to use funds designated under the Bus Program in any year for project activities outside the scope of the project designation included in report language, you must submit your request for reprogramming to the House and Senate Committees on Appropriations for resolution.

FTA will honor projects earmarked to receive section 5309 bus funds in SAFETEA-LU. Legislation will be necessary to amend the earmark if you wish to use funds for project activities outside the scope of the project description.

Grants made under the Bus and Bus-Related Facilities program must meet all other eligibility requirements as outlined in section 5309 unless otherwise specified in law.

Program guidance for Bus and Bus-Related Facilities is found in FTA Circular C9300.1A, Capital Program: Grant Application Instructions. FTA is in the process of updating this circular to incorporate changes resulting from language in SAFETEA-LU. FTA issued a proposed revision of the circular and the public comment period on the document ends on January 25, 2008.

4. Period of Availability

The FY 2008 Bus and Bus-Related Facilities funds not obligated for their original purpose as of September 30, 2010, may be made available for other projects under 49 U.S.C. 5309.

5. Other Program or Allocation Related Information and Highlights

Prior year unobligated balances for Bus and Bus-Related allocations in the amount of $1,127,186,665 remain available for obligation in FY 2008. This includes $1,091,033,715 in fiscal years 2006 and 2007 unobligated allocations (earmarked and discretionary projects); $35,090,169 for FY 2000-FY 2004 unobligated allocations that were extended by previous direction by the House and Senate appropriation committees; $1,062,841 for earmarks reallocated in FY 2007. The unobligated amounts available as of September 30, 2007, are displayed in Table 12. Table 12 does not include extended or redirected project funds identified in the reports accompanying the Consolidated Appropriations Act, 2008, or in the most recent congressional clarification letter dated December 19, 2007. FTA will issue a supplemental notice at a later date.

G. Capital Investment Program (49 U.S.C. 5309)—New Starts

The New Starts program provides funds for construction of new fixed guideway systems or extensions to existing fixed guideway systems. Eligible purposes are light rail, rapid rail (heavy rail), commuter rail, monorail, automated fixed guideway system (such as a “people mover”), or a busway/high occupancy vehicle (HOV) facility, Bus Rapid Transit that is a fixed guideway, or an extension of any of these. Projects become candidates for funding under this program by successfully completing the appropriate steps in the major capital investment planning and project development process. Major new fixed guideway projects, or extensions to existing systems, financed with New Starts funds typically receive these funds through a full funding grant agreement (FFGA) that defines the scope of the project and specifies the total multi-year Federal commitment to the project. Beginning in FY 2007, up to $200,000,000 each year is designated for “Small Starts” (section 5309(e)) projects with a New Starts share of less than $75,000,000 and a net project cost of less than $250,000,000. The Consolidated Appropriations Act, 2008, set aside $100,564,600 for Small Starts from the amounts appropriated for Capital Investment Grants.

Section 5309(m)(6) also made annual allocations of New Start funding available to Alaska and Hawaii for ferryboats and to the Denali Commission in Anchorage, Alaska, under the terms of section 307(e) of the Denali Commission Act of 1998 (42 U.S.C. 3121) for docks, waterfront development projects and related transportation infrastructure in rural Alaska communities.

For more information about New Starts project development contact Elizabeth Day, Office of Planning and Environment, at (202) 366-4033, or for information about published allocations contact Cheryl Oliver, Office of Transit Programs, at (202) 366-2053.

1. FY 2008 Funding Availability

The Consolidated Appropriations Act, 2008, provides $1,569,091,997 to New Starts. The total amount allocated for New Starts is, as shown in the table below.

New Starts
Total Appropriation | $1,569,091,997
Oversight Deduction | 15,690,920
Total Funds to be Allocated | 1,553,401,077
Funds Allocated to Specific Projects in Table 13 | ᵃ 1,534,492,165
Unallocated Funds | 18,908,912
ᵃ Includes $20 million for the Denali Commission and Alaska and Hawaii Ferry projects.

2. Basis for Allocation

Congress included authorizations for specific New Starts projects in SAFETEA-LU, the Consolidated Appropriations Act, 2008 and in statutory takedowns from the program for Alaska and Hawaii Ferryboats and the Denali Commission. FY 2008 New Starts funding is shown in Table 13.

3. Requirements

Because New Starts projects are earmarked in law rather than report language, reprogramming for a purpose other than that specified must also occur in law. New Starts projects are subject to a complex set of approvals related to planning and project development set forth in 49 CFR Part 611. FTA has published a number of rulemakings and interim guidance documents related to the New Starts program since the passage of SAFETEA-LU. Grantees should reference the FTA Web site at http://www.fta.dot.gov for the most current program guidance about project developments and management. Grant related guidance for New Starts is found in FTA Circular C9300.1A, Capital Program: Grant Application Instructions, dated October 1, 1998; and C5200.1A, Full Funding Grant Agreement Guidance, dated December 5, 2002. FTA is in the process of updating these circulars to incorporate changes resulting from language in SAFETEA-LU and recent rulemakings. Proposed revised circular 9300.1A is currently out for public comment. Comments are due by January 25, 2008.

4. Period of Availability

New Starts funds remain available for three fiscal years (including the fiscal year the funds are made available or appropriated plus two additional years.) FY 2008 funds remain available through September 30, 2010. Funds may be extended by Congress or made available for other projects after the period of availability has expired.

5. Other Program or Apportionment Related Information and Highlights

Prior year unobligated allocations for New Starts in the amount of $336,152,170 remain available for obligation in FY 2008. This amount includes $138,931,910 in FY 2005 and prior years, $126,973,589 in FY 2006 and $70,246,671 in FY 2007 unobligated allocations. These unobligated amounts are displayed in Table 14. Information on pre-award authority for New Starts projects is detailed in section V below.

H. Special Needs of Elderly Individuals and Individuals With Disabilities Program (49 U.S.C. 5310)

This program provides formula funding to States for capital projects to assist private nonprofit groups in meeting the transportation needs of the elderly and individuals with disabilities when the public transportation service provided in the area is unavailable, insufficient, or inappropriate to meet these needs. A State agency designated by the Governor administers the section 5310 program. The State's responsibilities include: notifying eligible local entities of funding availability; developing project selection criteria; determining applicant eligibility; selecting projects for funding; and ensuring that all subrecipients comply with Federal requirements. Eligible nonprofit organizations or public bodies must apply directly to the designated State agency for assistance under this program. For more information about the Elderly and Individuals with Disabilities Program contact Cheryl Oliver, Office of Transit Programs, at (202) 366-2053.

1. FY 2008 Funding Availability

The Consolidated Appropriations Act, 2008, provides $127,000,000 to the Elderly and Individuals with Disabilities Program (49 U.S.C. 5310). After deduction of 0.5 percent for oversight, and the addition of reapportioned prior year funds, $126,723,652 remains available for allocation to the States.

Elderly and Individuals With Disabilities Program
Total Appropriation | $127,000,000
Oversight Deduction | −635,000
Prior Year Funds Added | 358,652
Total Apportioned | 126,723,652

The FY 2008 Elderly and Individuals with Disabilities Program apportionments to the States are displayed in Table 15.

2. Basis for Apportionment

FTA allocates funds to the States by an administrative formula consisting of a $125,000 floor for each State ($50,000 for smaller territories) with the balance allocated based on 2000 Census population data for persons aged 65 and over and for persons with disabilities.

3. Requirements

Funds are available to support the capital costs of transportation services for older adults and people with disabilities. Uniquely under this program, eligible capital costs include the acquisition of service. Seven specified States (Alaska, Louisiana, Minnesota, North Carolina, Oregon, South Carolina, and Wisconsin) may use up to 33 percent of their apportionment for operating assistance under the terms of the SAFETEA-LU section 3012(b) pilot program.

Capital assistance is provided on an 80 percent Federal, 20 percent local matching basis except that section 5310(c) allows States eligible for a higher match under the sliding scale for FHWA programs to use that match ratio for section 5310 capital projects. Operating assistance is 50 percent Federal, 50 percent local. Funds provided under other Federal programs (other than those of the DOT, with the exception of the Federal Lands Highway Program established by 23 U.S.C. 204) may be used as match. Revenue from service contracts may also be used as local match.

While the assistance is intended primarily for private non-profit organizations, public bodies approved by the State to coordinate services for the elderly and individuals with disabilities, or any public body that certifies to the State that there are no non-profit organizations in the area that are readily available to carry out the service, may receive these funds.

States may use up to ten percent of their annual apportionment to administer, plan, and provide technical assistance for a funded project. No local share is required for these program administrative funds. Funds used under this program for planning must be shown in the United Planning Work Program (UPWP) for MPO(s) with responsibility for that area.

The State recipient must certify that: the projects selected were derived from a locally developed, coordinated public transit-human services transportation plan; and, the plan was developed through a process that included representatives of public, private, and nonprofit transportation and human services providers and participation by the public. The locally developed, coordinated public transit-human services transportation planning process must be coordinated and consistent with the metropolitan and statewide planning processes and funding for the program must be included in the metropolitan and statewide Transportation Improvement Plan (TIP and STIP) at a level of specificity or aggregation consistent with State and local policies and procedures. Finally, the State must certify that allocations of the grant to subrecipients are made on a fair and equitable basis.

The coordinated planning requirement is also a requirement in two additional programs. Projects selected for funding under the Job Access Reverse Commute program and the New Freedom program are also required to be derived from a locally developed coordinated public transit/human service transportation plan. FTA anticipates that most areas will develop one consolidated plan for all the programs, which may include separate elements and other human service transportation programs.

The section 5310 program is subject to the requirements of section 5307 to the extent the Secretary determines appropriate. Program guidance is found in FTA C 9070.1F, dated May 1, 2007. The circular is posted on the FTA Web site at http://www.fta.dot.gov.

4. Period of Availability

FTA has administratively established a three year period of availability for section 5310 funds. Funds allocated to States under the Elderly and Individuals with Disabilities Program in this notice must be obligated by September 30, 2010. Any funding that remains unobligated as of that date will revert to FTA for reapportionment among the States under the Elderly and Individuals with Disabilities Program.

5. Other Program or Apportionment Related Information and Highlights

States may transfer section 5310 funds to section 5307 or section 5311, but only for projects selected under the section 5310 program, not as a general supplement for those programs. FTA anticipates that the States would use this flexibility primarily for projects to be implemented by a section 5307 recipient in a small urbanized area, or for Federally recognized Indian Tribes that elect to receive funds as a direct recipient from FTA under section 5311. A State that transfers section 5310 funds to section 5307 must certify that each project for which the funds are transferred has been coordinated with private nonprofit providers of services. FTA has established a scope code (641) to track 5310 projects included within a section 5307 or 5311 grant. Transfer to section 5307 or 5311 is permitted but not required. FTA expects primarily to award stand-alone section 5310 grants to the State for any and all subrecipients.

I. Nonurbanized Area Formula Program (49 U.S.C. 5311)

This program provides formula funding to States and Indian Tribes for the purpose of supporting public transportation in areas with a population of less than 50,000. Funding may be used for capital, operating, State administration, and project administration expenses. Eligible subrecipients include State and local public agencies, Indian Tribes, private non-profit organizations, and private operators of public transportation services, including intercity bus companies. Indian Tribes are also eligible direct recipients under section 5311, both for funds apportioned to the States and for projects selected to be funded with funds set aside for a separate Tribal Transit Program.

For more information about the Nonurbanized Area Formula Program contact Lorna Wilson, Office of Transit Programs, at (202) 366-2053.

1. FY 2008 Funding Availability

The Consolidated Appropriations Act, 2008, provides $438,000,000 to the Nonurbanized Area Formula Program (49 U.S.C. 5311). The total amount apportioned for the Nonurbanized Area Formula Program is $415,050,000, after take-downs of two percent for the Rural Transportation Assistance Program (RTAP), 0.5 percent for oversight, and $12,000,000 for the Tribal Transit Program, and the addition of section 5340 funds and prior year funds reapportioned, as shown in the table below.

Nonurbanized Area Formula Program
Total Appropriation | $438,000,000
Oversight Deduction | −2,190,000
RTAP Takedown | −8,760,000
Tribal Transit Takedown | −12,000,000
Prior Year Funds Added | 943,489
Section 5340 Funds Added | 68,840,835
Total Apportioned | 484,834,324

The FY 2008 Nonurbanized Area Formula apportionments to the States are displayed in Table 16.

2. Basis for Apportionments

FTA apportions the funds available for apportionment after take-down for oversight, the Tribal Transit Program, and RTAP according to a statutory formula. FTA apportions the first twenty percent to the States based on land area in nonurbanized areas with no state receiving more than 5 percent of the amount apportioned. FTA apportions the remaining eighty percent based on nonurbanized population of each State relative to the national nonurbanized population. FTA does not apportion section 5311 funds to the Virgin Islands, which by a statutory exception are treated as an urbanized area for purposes of the section 5307 formula program.

FTA also allocated $68,840,835 to the 50 States for nonurbanized areas from the Growing States portion of section 5340. FTA apportions Growing States funds by a formula based on State population forecasts for 15 years beyond the most recent census. FTA distributes the amounts apportioned for each State between UZAs and nonurbanized areas based on the ratio of urbanized/nonurbanized population within each State in the 2000 census.

3. Program Requirements

The Nonurbanized Area Formula Program provides capital, operating and administrative assistance for public transit service in nonurbanized areas under 50,000 in population.

The Federal share for capital assistance is 80 percent and for operating assistance is 50 percent, except that States eligible for the sliding scale match under FHWA programs may use that match ratio for section 5311 capital projects and 62.5 percent of the sliding scale capital match ratio for operating projects.

Each State must spend no less than 15 percent of its FY 2008 Nonurbanized Area Formula apportionment for the development and support of intercity bus transportation, unless the State certifies, after consultation with affected intercity bus service providers, that the intercity bus service needs of the State are being adequately met. SAFETEA-LU added this requirement for consultation with the industry to strengthen the certification requirement. FTA also encourages consultation with other stakeholders, such as communities affected by loss of intercity service.

Each State prepares an annual program of projects, which must provide for fair and equitable distribution of funds within the States, including Indian reservations, and must provide for maximum feasible coordination with transportation services assisted by other Federal sources.

In order to retain eligibility for funding, recipients of section 5311 funding must report data annually to the NTD, beginning with the 2006 reporting year.

Program guidance for the Nonurbanized Area Formula Program is found in FTA C 9040.1F, Nonurbanized Area Formula Program Guidance and Grant Application Instructions, dated April 1, 2007, which was revised and reissued after notice and comment. The circular is posted at www.fta.dot.gov.

4. Period of Availability

Funds apportioned to nonurbanized areas under the Nonurbanized Area Formula Program during FY 2008 will remain available for two additional fiscal years after the year of apportionment. Any funds that remain unobligated at the close of business on September 30, 2010, will revert to FTA for allocation among the States under the Nonurbanized Area Formula Program.

5. Other Program or Apportionment Related Information and Highlights

a. NTD Reporting. By law, FTA requires that each recipient under the section 5311 program submit an annual report to the NTD containing information on capital investments, operations, and service provided with funds received under the section 5311 program. Section 5311(b)(4), as amended by SAFETEA-LU, specifies that the report should include information on total annual revenue, sources of revenue, total annual operating costs, total annual capital costs, fleet size and type, and related facilities, revenue vehicle miles, and ridership. Reporting of 2006 data was a voluntary state-based rural data module for the NTD that FTA previously developed on in consultation with State Departments of Transportation (DOT). On December 6, 2007, FTA published a final rule regarding the NTD requirements for section 5311 recipients. The proposed NTD Rural Data Reporting Module manual and reporting instructions for 2007 data was also published for public comment and revised in response to comments received. The final 2007 NTD Rural Data Reporting Module manual and reporting instructions are now posted on the NTD Web site, http://www.ntdprogram.com. For each 5311 subrecipient, the State DOT must complete a one-page form of basic data. NTD reporting year 2007 reports are due on February 29, 2008, for reports whose 2007 Fiscal Year ended on or before September 30, 2007. The 2007 NTD Reporting deadline will continue to be April 30, 2008, for those reports whose 2007 Fiscal Year ended or will end between October 1, 2007, and December 31, 2007. The NTD deadlines will revert to the standard for FY 2008. The anticipated report due dates are as follows: 2008 Fiscal Year end date: January 1, 2008-June 30, 2008 report due: October 31, 2008, 2008 Fiscal Year end date: July 1, 2008—September 30, 2008 report due: January 30, 2009, 2008 Fiscal Year end date: October 1, 2008—December 31, 2008 report due: May 1, 2009. For full details on NTD reporting and to enter data and receive additional instructions, State DOTs can go to the NTD Web site http://www.ntdprogram.gov.

b. Extension of Intercity Bus Pilot of In-Kind Match. Beginning in FY 2007, FTA implemented a two year pilot program of in-kind match for intercity bus service. The initial program was set to expire after FY 2008; however, FTA has decided to extend the program through FY 2009. FTA published guidance on the in-kind match pilot in the Federal Register on February 28, 2007, as Appendix 1 of the Notice announcing the final revised circular 9040.1F.

J. Rural Transportation Assistance Program (49 U.S.C. 5311(b)(3))

This program provides funding to assist in the design and implementation of training and technical assistance projects, research, and other support services tailored to meet the needs of transit operators in nonurbanized areas. For more information about Rural Transportation Assistance Program (RTAP) contact Lorna Wilson, Office of Transit Programs, at (202) 366-2053.

1. FY 2008 Funding Availability

The Consolidated Appropriations Act, 2008, provides $8,760,000 to RTAP (49 U.S.C. 5311(b)(2)), as a two percent takedown from the funds appropriated for Section 5311. FTA has reserved 15 percent for the National RTAP program. After adding prior year funds eligible for reapportionment, $7,561,124 is available for allocations to the States, as shown in the table below.

Rural Transit Assistance Program
Total Appropriation | $8,760,000
National RTAP Takedown | −1,314,000
Prior Year Funds Added | 115,124
Total Apportioned | 7,561,124

Table 16 shows the FY 2008 RTAP allocations to the States.

2. Basis for Allocation

FTA allocates funds to the States by an administrative formula. First FTA allocates $65,000 to each State ($10,000 to territories), and then allocates the balance based on nonurbanized population in the 2000 census.

3. Program Requirements

States may use the funds to undertake research, training, technical assistance, and other support services to meet the needs of transit operators in nonurbanized areas. These funds are to be used in conjunction with a State's administration of the Nonurbanized Area Formula Program, but may also support the rural components of the Section 5310, JARC, and New Freedom programs.

4. Period of Availability

Funds apportioned to States under RTAP remain available for two fiscal years following FY 2008. Any funds that remain unobligated at the close of business on September 30, 2010, will revert to FTA for allocation among the States under the RTAP.

5. Other Program or Apportionment Related Information and Highlights

The National RTAP project is administered by cooperative agreement and re-competed at five-year intervals. During FY 2008, FTA will be soliciting proposals for the National RTAP program services for the next five years. The projects are guided by a project review board of managers of rural transit systems and State DOT RTAP programs. National RTAP resources also support the biennial TRB National Conference on Rural Public and Intercity Bus Transportation and other research and technical assistance projects of a national nature.

The percentage takedown for RTAP, combined with rising funding levels for section 5311, make additional resources available at the State RTAP program level as well as the national RTAP for projects such as providing technical assistance for the new tribal transit program and conducting intercity bus needs assessments.

K. Public Transportation on Indian Reservations Program (49 U.S.C. 5311(c)(1))

FTA refers to this program as the Tribal Transit Program. It is funded as a takedown from funds appropriated for the section 5311 program. Federally recognized Indian Tribes are defined as eligible direct recipients. The funds are to be apportioned for grants to Indian Tribes for any purpose eligible under section 5311, which includes capital, operating, planning, and administrative assistance for rural public transit services and rural intercity bus service. For more information about the Tribal Transit Program contact Lorna Wilson, Office of Transit Programs, at (202) 366-2053.

1. Funding Availability in FY 2008

Under the Consolidated Appropriations Act, 2008, the amount allocated to the program in FY 2008 is $12,000,000, as authorized in section 5311(c)(1)(B).

2. Basis for Allocation

Based on procedures developed in consultation with the Tribes, FTA will issue a Notice of Funding Availability (NOFA) soliciting applications for FY 2008 funds.

3. Requirements

FTA developed streamlined program requirements based on statutory authority allowing the Secretary to determine the terms and conditions appropriate to the program. These conditions are contained in the annual NOFA.

4. Period of Availability

Funds remain available for three fiscal years, which includes the fiscal year the funds were apportioned or appropriated plus two additional years. Funds appropriated in FY 2008 will remain available for obligation to the tribes competitively selected to receive the funds through September 30, 2010. Any funds that remain unobligated after September 30, 2010, will revert to FTA for reallocation among the Tribes.

5. Other Program or Apportionment Related Information and Highlights

The funds set aside for the Tribal Transit Program are not meant to replace or reduce funds that Indian Tribes receive from states through the section 5311 program but are to be used to enhance public transportation on Indian reservations and transit serving tribal communities. Funds allocated to Tribes by the States may be included in the State's section 5311 application or awarded by FTA in a grant directly to the tribe. We encourage Tribes intending to apply to FTA as direct recipients to contact the appropriate FTA regional office at the earliest opportunity.

Technical assistance for Tribes may be available from the State DOT using the State's allocation of RTAP or funds available for State administration under section 5311, from the Tribal Transportation Assistance Program (TTAP) Centers supported by FHWA, and from the Community Transportation Association of America under a program funded by the United States Department of Agriculture (USDA). The National RTAP will also be developing new resources for Tribal Transit.

L. National Research Programs (49 U.S.C. 5314)

FTA's National Research Programs (NRP) include the National Research and Technology Program (NRTP), the Transit Cooperative Research Program (TCRP), the National Transit Institute (NTI), and the University Transportation Centers Program (UTC).

Through funding under these programs, FTA seeks to deliver solutions that improve public transportation. FTA's Strategic Research Goals are to provide transit research leadership, increase transit ridership, improve capital and operating efficiencies, improve safety and emergency preparedness, and to protect the environment and promote energy independence. For more information contact Bruce Robinson, Office of Research, Demonstration and Innovation, at (202) 366-4209.

1. Funding Availability in FY 2008

The Consolidated Appropriations Act, 2008, provides $65,362,900 for the Research and University Research Centers Programs. Of this amount $9,300,000 is allocated for TCRP, $4,300,000 for NTI, $7,000,000 for the UTC, and $44,762,900 for NRTP. Within the NRTP—$22,225,000 is allocated for specific activities under 49 U.S.C. 5338(d) and in section 3046 of SAFETEA-LU. All research and research and development projects, as defined by the Office of Management and Budget, are subject to a 2.6% reduction for the Small Business Innovative Research Program (SBIR). The takedown has been applied where applicable, unless the purpose of the project is unclear. A breakdown of NRP funds is provided in the table below.

National Research Programs
Total Appropriation | $65,362,900
Funds Allocated for Specific Programs or Activities | 42,770,660
Small Business Innovative Research Takedown estimate | 200,000
Funds Available for FTA Programming | 22,392,240
Total NRP Funding | 65,362,900

The project allocations are listed in Table 17.

2. Program Requirements

Application Instructions and Program Management Guidelines are set forth in FTA Circular 6100.1C. Research projects must support FTA's Strategic Research Goals and meet the Office of Management and Budget's Research and Development Investment Criteria. All research recipients are required to work with FTA to develop approved Statements of Work and plans to evaluate research results before award.

Eligible activities under the NRTP include research, development, demonstration and deployment projects as defined by 49 U.S.C. 5312(a); Joint Partnership projects for deployment of innovation as defined by 49 U.S.C. 5312(b); International Mass Transportation Projects as defined by 49 U.S.C. 5312(c); and, human resource programs as defined by 49 U.S.C. 5322. Unless otherwise specified in law, all projects must meet one of these eligibility requirements.

Problem Statements for TCRP can be submitted on TCRP's Web site: http://www.tcrponline.org. Information about NTI courses can be found at http://www.ntionline.com. UTC funds are transferred to the Research and Innovative Technology Administration to make awards.

3. Period of Availability

Funds are available until expended.

4. Other Program or Apportionment Related Information and Highlights

Funds not designated by Congress for specific projects and activities will be programmed by FTA based on national priorities. Opportunities are posted in http://www.grants.gov under Catalogue of Federal Domestic Assistance Number 20.514.

M. Job Access and Reverse Commute Program (49 U.S.C. 5316)

The Job Access and Reverse Commute (JARC) program provides formula funding to States and Designated Recipients to support the development and maintenance of job access projects designed to transport welfare recipients and low-income individuals to and from jobs and activities related to their employment, and for reverse commute projects designed to transport residents of UZAs and other than urbanized to suburban employment opportunities. For more information about the JARC program contact David Schneider, Office of Transit Programs, at (202) 366-2053.

1. Funding Availability in FY 2008

The Consolidated Appropriations Act, 2008, provides $156,000,000 for the JARC Program. The total amount apportioned by formula is $156,000,000 as shown in the table below.

Job Access and Reverse Commute Program
Total Appropriation | $156,000,000
Total Apportioned | 156,000,000

Table 18 shows the FY 2008 JARC apportionments.

2. Basis for Formula Apportionment

By law, FTA allocates 60 percent of funds available to UZAs with populations of 200,000 or more persons (large UZAs); 20 percent to the States for urbanized areas with populations ranging from 50,000 to 200,000 persons (small UZAs), and 20 percent to the States for rural and small urban areas with populations of less than 50,000 persons. FTA apportions funds based upon the number of low income individuals residing in a State or large urbanized area, using data from the 2000 Census for individuals below 150 percent of poverty. FTA publishes apportionments to each State for small UZAs and for rural and small urban areas and a single apportionment for each large UZA.

The Designated Recipient, either for the State or for a large UZA, is responsible for further allocating the funds to specific projects and subrecipients through a competitive selection process. If the Governor has designated more than one recipient of JARC funds in a large UZA, the Designated Recipients may agree to conduct a single competitive selection process or sub-allocate funds to each Designated Recipient, based upon a percentage split agreed upon locally, and conduct separate competitions.

States may transfer funds between the small UZA and the nonurbanized apportionments, if all of the objectives of JARC are met in the size area the funds are taken from. States may also use funds in the small UZA and nonurbanized area apportionments for projects anywhere in the State (including large UZAs) if the State has established a statewide program for meeting the objectives of JARC. A State planning to transfer funds under either of these provisions should submit a request to the FTA regional office. FTA will assign new accounting codes to the funds before obligating them in a grant.

3. Requirements

States and Designated Recipients must solicit grant applications and select projects competitively, based on application procedures and requirements established by the Designated Recipient, consistent with the Federal JARC program objectives. In the case of large UZAs, the area-wide solicitation shall be conducted in cooperation with the appropriate MPO(s).

Funds are available to support the planning, capital and operating costs of transportation services that are eligible for funding under the program. Assistance may be provided for a variety of transportation services and strategies directed at assisting welfare recipients and eligible low-income individuals address unmet transportation needs, and to provide reverse commute services. The transportation services may be provided by public, non-profit, or private-for-profit operators. The Federal share is 80 percent of capital and planning expenses and 50 percent of operating expenses. Funds provided under other Federal programs (other than those of the U.S. DOT) may be used for local/State match for funds provided under section 5316, and revenue from service contracts may be used as local match.

States and Designated Recipients may use up to ten percent of their annual apportionment for administration, planning, and to provide technical assistance. No local share is required for these program administrative funds. Funds used under this program for planning in urbanized areas must be shown in the UPWP for MPO(s) with responsibility for that area.

The Designated Recipient must certify that: the projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes and funding for the program must be included in the metropolitan and statewide Transportation Improvement Program (TIP and STIP) at a level of specificity or aggregation consistent with State and local policies and procedures. Finally, the State must certify that allocations of the grant to subrecipients are made on a fair and equitable basis.

The coordinated planning requirement is also a requirement in two additional programs. Projects selected for funding under the section 5310 program and the New Freedom program are also required to be derived from a locally developed coordinated public transit-human service transportation plan. FTA anticipates that most areas will develop one consolidated plan for all the programs, which may include separate elements and other human service transportation programs. The goal of the coordinated planning process is not to be an exhaustive document, but to serve as a tool for planning and implementing beneficial projects. The level of effort required to develop the plan will vary among communities based on factors such as the availability of resources. FTA does not approve coordinated plans.

The JARC program is subject to the relevant requirements of section 5307, including the requirement for certification of labor protections. FTA issued a new circular for the formula JARC program, FTA C 9050.1, dated April 1, 2007 and effective May 1, 2007. This circular which is posted on the FTA Web site at http://www.fta.dot.gov supersedes all previous interim guidance for the program.

4. Period of Availability

FTA has established a consistent three-year period of availability for JARC, New Freedom, and the section 5310 program, which includes the year of apportionment plus two additional years. FY 2008 funding is available through FY 2010. Any funding that remains unobligated on September 30, 2010 will revert to FTA for reapportionment among the States and large UZAs under the JARC program.

5. Other Program or Apportionment Related Information and Highlights

a. Carryover Earmarks. Table 19 lists prior year carryover of $14,337,688 for JARC projects designated by Congress in FYs 2002-2005. JARC earmarks carried over from TEA-21 are subject to the terms and conditions under which they were originally appropriated, including the requirement for a 50 percent local share for both capital and operating assistance. All projects should be in a regional JARC Plan as required under TEA-21 or in the new local coordinated plan required by the new formula JARC program. FTA will award a grant for a designated project upon receipt of a complete application, but can honor changes to the original designation only if so directed by the Appropriations Committee chairs.

b. Designated Recipient. FTA must have received formal notification from the Governor or Governor's designee of the Designated Recipient for JARC funds apportioned to a State or large UZA before awarding a grant to that area for JARC projects.

c. Transfers to section 5307 or 5311. States may transfer JARC funds to section 5307 or section 5311, but only for projects competitively selected under the JARC program, not as a general supplement for those programs. FTA anticipates that the States would use this flexibility primarily for projects to be implemented by a section 5307 recipient in a small urbanized area or for Federally recognized Indian Tribes that elect to receive funds as a direct recipient from FTA under section 5311. FTA has established a scope code (646) to track JARC projects included within a section 5307 or 5311 grant. Transfer to section 5307 or 5311 is permitted but not required. FTA will also award stand-alone section 5316 grants to the State for any and all subrecipients. In order to track disbursements accurately against the appropriate program, FTA will not combine JARC funds with section 5307 funds in a single section 5307 grant, nor will FTA combine JARC with New Freedom funds in a single section 5307 grant.

d. Evaluation. Section 5316(i)(2), as added by SAFETEA-LU, requires FTA to conduct a study to evaluate the effectiveness of the JARC program. To support the evaluation, annual GAO reports on the program, and DOT Performance Measures, while reducing the burden grantees previously experienced from separate reporting required for the JARC program under TEA-21, FTA has incorporated reporting for performance measures into the annual progress report all JARC grantees submit in TEAM.

N. New Freedom Program (49 U.S.C. 5317)

SAFETEA-LU established the New Freedom Program under 49 U.S.C. 5317, The program's purpose is to provide new public transportation services and public transportation alternatives beyond those currently required by the Americans with Disabilities Act of 1990 (42 U.S.C. 12101 et seq.) that assist individuals with disabilities with transportation, including transportation to and from jobs and employment support services. For more information about the New Freedom program contact David Schneider, Office of Transit Programs, at (202) 366-2053.

1. Funding Availability in FY 2008

The Consolidated Appropriations Act, 2008, provides $87,500,000 for the New Freedom Program. The entire amount is apportioned by formula, as shown in the table below.

New Freedom Program
Total Appropriation | $87,500,000
Total Apportioned | 87,500,000

Table 20 shows the FY 2008 New Freedom apportionments.

2. Basis for Formula Apportionment

By law, FTA allocates 60 percent of funds available to UZAs with populations of 200,000 or more persons (large UZAs); 20 percent to the States for urbanized areas with populations ranging from 50,000 to 200,000 persons (small UZAs), and 20 percent to the States for rural and small urban areas with populations of less than 50,000 persons. FTA apportions funds based upon the number of persons with disabilities over the age of five residing in a State or large urbanized area, using data from the 2000 Census. FTA publishes apportionments to each State for small UZAs and for rural and small urban areas and a single apportionment for each large UZA.

The Designated Recipient, either for the State or for a large UZA, is responsible for further allocating the funds to specific projects and subrecipients through a competitive selection process. If the Governor has designated more than one recipient of New Freedom funds in a large UZA, the Designated Recipients may agree to conduct a single competitive selection process or sub-allocate funds to each Designated Recipient, based upon a percentage split agreed upon locally and conduct separate competitions.

3. Requirements

States and Designated Recipients must solicit grant applications and select projects competitively, based on application procedures and requirements established by the Designated Recipient, consistent with the Federal New Freedom program objectives. In the case of large UZAs, the area-wide solicitation shall be conducted in cooperation with the appropriate MPO(s).

Funds are available to support the capital and operating costs of new public transportation services and public transportation alternatives that are beyond those required by the Americans with Disabilities Act. Funds provided under other Federal programs (other than those of the DOT) may be used as match for capital funds provided under section 5317, and revenue from contract services may be used as local match.

Funding is available for transportation services provided by public, non-profit, or private-for-profit operators. Assistance may be provided for a variety of transportation services and strategies directed at assisting persons with disabilities address unmet transportation needs. Eligible public transportation services and public transportation alternatives funded under the New Freedom program must be both new and beyond the ADA. (In FY 2007, FTA published interim guidance holding Designated Recipients harmless for project selections conducted in good faith based on FTA's earlier preliminary determination that eligible services could be either new or beyond the ADA. Grants awarded in FY 2008 are now subject to the requirements of the final guidance which was published April 1, 2007.)

The Federal share is 80 percent of capital expenses and 50 percent of operating expenses. Funds provided under other Federal programs (other than those of the DOT) may be used for local/state match for funds provided under section 5317, and revenue from service contracts may be used as local match.

States and Designated Recipients may use up to ten percent of their annual apportionment to administer, plan, and provide technical assistance for a funded project. No local share is required for these program administrative funds. Funds used under this program for planning must be shown in the UPWP for MPO(s) with responsibility for that area.

The Designated Recipient must certify that: The projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes and funding for the program must included in the metropolitan and statewide Transportation Improvement Plan (TIP and STIP) at a level of specificity or aggregation consistent with State and local policies and procedures. Finally, the State must certify that allocations of the grant to subrecipients are made on a fair and equitable basis.

The coordinated planning requirement is also a requirement in two additional programs. Projects selected for funding under the section 5310 program and the JARC program are also required to be derived from a locally developed coordinated public transit-human service transportation plan. FTA anticipates that most areas will develop one consolidated plan for all the programs, which may include separate elements and other human service transportation programs.

The New Freedom program is subject to the relevant requirements of section 5307, but certification of labor protections is not required. FTA published a new circular for this program, FTA C 9045.1, which was effective May 1, 2007. The circular is posted on the FTA Web site at http://www.fta.dot.gov.

4. Period of Availability

FTA has established a consistent three-year period of availability for New Freedom, JARC, and the section 5310 program, which includes the year of apportionment plus two additional years. FY 2008 funding is available through FY 2010. Any funding that remains unobligated on September 30, 2010 will revert to FTA for reapportionment among the States and large UZAs under the New Freedom program.

5. Other Program or Apportionment Related Information and Highlights

a. Designated Recipient. FTA must have received formal notification from the Governor or Governor's designee of the Designated Recipient for New Freedom funds apportioned to a State or large UZA before awarding a grant to that area for New Freedom projects.

b. Transfers to section 5307 or 5311. States may transfer New Freedom funds to section 5307 or section 5311, but only for projects competitively selected under the New Freedom program, not as a general supplement for those programs. FTA anticipates that the States would use this flexibility for projects to be implemented by a section 5307 recipient in a small urbanized area or for Federally recognized Indian Tribes that elect to receive funds as a direct recipient from FTA under section 5311. FTA has established a scope code (647) to track New Freedom projects included within a section 5307 or 5311 grant. Transfer to section 5307 or 5311 is permitted but not required. FTA will also award stand-alone section 5317 grants to the State for any and all subrecipients. In order to track disbursements accurately against the appropriate program, FTA will not combine New Freedom funds with section 5307 funds in a single section 5307 grant, nor will FTA combine New Freedom with JARC funds in a single section 5307 grant.

c. Performance Measures. To support the evaluation of the program and Departmental reporting under the Governmental Performance and Results Act and the Office of Management and Budget's Performance Assessment and Rating Tool, FTA has incorporated reporting for performance measures into the annual progress report all New Freedom grantees submit in TEAM.

O. Alternative Transportation in Parks and Public Lands (49 U.S.C. 5320)

The Alternative Transportation in Parks and Public Lands (ATPPL) program is administered by FTA in partnership with the Department of the Interior (DOI) and the U.S. Department of Agriculture's Forest Service. The purpose of the program is to enhance the protection of national parks and Federal lands, and increase the enjoyment of those visiting them. The program funds capital and planning expenses for alternative transportation systems such as buses and trams in federally-managed parks and public lands. Federal land management agencies and State, tribal and local governments acting with the consent of a Federal land management agency are eligible to apply. DOI, after consultation with and in cooperation with FTA, determines the final selection and funding of projects.

1. FY 2008 Funding Availability

The Consolidated Appropriations Act, 2008, makes $25 million available for the program in FY 2008. Ten percent of the funds are reserved for administration and technical assistance. FTA published a Notice of Funding Availability (NOFA) in the Federal Register on December 13, 2007, inviting applications for projects to be funded in FY 2008. Applications are due to FTA on February 29, 2008.

2. Program Requirements

Projects are competitively selected based on criteria specified in the Notice of Funding Availability. The terms and conditions applicable to the program are also specified in the NOFA. Projects must conserve natural, historical, and cultural resources, reduce congestion and pollution, and improve visitor mobility and accessibility. No more than 25 percent may be allocated for any one project.

3. Period of Availability

The funds under the Alternative Transportation in Parks and Public Lands remain available until expended.

4. Other Program or Apportionment Related Information and Highlights.

Project selections for the FY 2007 funding were published in the Federal Register on October 15, 2007. Forty-six projects were awarded totaling $19,788,840.

P. Alternatives Analysis Program (49 U.S.C. 5339)

The Alternatives Analysis Program provides grants to States, authorities of the States, metropolitan planning organizations, and local government authorities to develop studies as part of the transportation planning process. These studies include an assessment of a wide range of public transportation alternatives designed to address a transportation problem in a corridor or subarea; sufficient information to enable the Secretary to make the findings of project justification and local financial commitment required; the selection of a locally preferred alternative; and the adoption of the locally preferred alternative as part of the state or regional long-range transportation plan. For more information about this program contact Ron Fisher, Office of Planning and Environment, at (202) 366-4033.

1. FY 2008 Funding Availability

The Consolidated Appropriations Act, 2008, provides $24,691,100 to the Alternatives Analysis Program (49 U.S.C. 5339).

Alternative Analysis Program
Total Appropriation | $25,000,000
Ob lim reduction/Rescission | −308,900
Total Available | 24,691,100

2. Basis for Allocation of Funds

SAFETEA-LU designated projects for FY 2006 and FY 2007. There are no SAFETEA-LU project designations for FY 2008. The Consolidated Appropriations Act, 2008, provided an obligation limitation of $24,691,100 derived from reducing the appropriated $25,000,000 by two percent. FTA will publish allocations under the Alternative Analysis program at a later date.

3. Requirements

Alternatives Analysis program funds may be made available to States, authorities of the States, metropolitan planning organizations, and local governmental authorities. The Government's share of the cost of an activity funded may not exceed 80 percent of the cost of the activity. The funds will be awarded as separate section 5339 grants. The grant requirements will be comparable to those for section 5309 grants. Eligible projects include planning and corridor studies and the adoption of locally preferred alternatives within the fiscally constrained Metropolitan Transportation Plan for that area. Funds awarded under the Alternatives Analysis Program must be shown in the UPWP for MPO(s) with responsibility for that area. Pre-award authority applies to these funds after Congress appropriates funds for these projects and the allocations are published in an FTA notice of apportionments and allocations.

Legislation to amend an FY 2006 or 2007 earmark under section 3037(c) of SAFETEA-LU is necessary should a recipient wish to use section 5339 funds for eligible project activities outside the scope of the project description. Unless otherwise specified in law, grants made under the Alternatives Analysis program must meet all other eligibility requirements as outlined in section 5309.

4. Period of Availability

Funds designated for specific Alternatives Analysis Program projects remain available for obligation for three fiscal years, which includes the year of appropriation plus two additional fiscal years. The FY 2008 funding for projects included in this notice remains available through September 30, 2010. Alternatives Analysis funds not obligated in an FTA grant for their original purpose at the end of the period of availability will generally be made available for other projects.

5. Other Program or Apportionment Related Information and Highlights

Table 21 lists prior year carryover of $28,560,000 for Alternative Analysis projects that was made available in FY 2006 and FY 2007. This amount includes $4,351,000 for FY 2006; $12,900,000 for FY 2007; and $11,309,000 for discretionary projects funded by FTA using unallocated funds from FY 2006 and FY 2007.

Q. Growing States and High Density States Formula Factors

The Consolidated Appropriations Act, 2008, makes $438,000,000 available for apportionment in accordance with the formula factors prescribed for Growing States and High Density States in section 5340 of SAFETEA-LU. Fifty percent of this amount (or $219,000,000) is apportioned to eligible States and urbanized areas using the Growing State formula factors. The other 50 percent is apportioned to eligible States and urbanized areas using the High Density States formula factors. Based on application of the formulas, $150,159,165 of the Growing States funding was apportioned to urbanized areas and $68,840,835 to nonurbanized areas. All of the $219,000,000 allotted to High Density States was apportioned to urbanized areas.

The term “State” is defined only to mean the 50 States. For the Growing State portion of section 5340, funds are allocated based on the population forecasts for fifteen years after the date of that census. Forecasts are based on the trend between the most recent decennial census and Census Bureau population estimates for the most current year. Census population estimates as of December 27, 2007 were used in the FY 2008 apportionments Funds allocated to the States are then sub-allocated to urbanized and non-urbanized areas based on forecast population, where available. If forecasted population data at the urbanized level is not available, as is currently the case, funds are allocated to current urbanized and non-urbanized areas on the basis of current population in the 2000 Census. Funds allocated to urbanized areas are included in their section 5307 apportionment. Funds allocated for non-urbanized areas are included in the states' section 5311 apportionments.

R. Over-the-Road Bus Accessibility Program (49 U.S.C. 5310 Note)

The Over-the-Road Bus Accessibility (OTRB) Program authorizes FTA to make grants to operators of over-the-road buses to help finance the incremental capital and training costs of complying with the DOT over-the-road bus accessibility final rule, 49 CFR Part 37, published on September 28, 1998 (63 FR 51670). FTA conducts a national solicitation of applications, and grantees are selected on a competitive basis. For more information about the OTRB program contact Blenda Younger, Office of Transit Programs, at (202) 366-2053.

1. Funding Availability in FY 2008

The Consolidated Appropriations Act, 2008, provides $8,300,000 for the Over-the-Road Bus Accessibility (OTRB) Program, which is the total amount allocable for OTRB, as shown in the table below.

Over-the-Road Bus Accessibility Program
Total Appropriation | $8,300,000
Funds Available for Competitive Allocation | 8,300,000

Of this amount, $6,225,000 is allocable to providers of intercity fixed-route service, and $2,075,000 to other providers of over-the-road bus services, including local fixed-route service, commuter service, and charter and tour service.

2. Program Requirements

Projects are competitively selected. The Federal share of the project is 90 percent of net project cost. Program guidance is provided in the Federal Register notice soliciting applications. In the Notice of Funding Availability (NOFA) for FY 2007 funds, published on September 14, 2007, FTA reserved the right to use applications received in response to that Notice to allocate FY 2008 funds as well, depending on the timing of the Appropriations Act. Applications were due by November 13, 2007. Since FTA has not yet announced FY 2007 funding selections, we will allocate FY 2007 and 2008 funds to applicants who responded to the FY 2007 NOFA. We will publish a notice in the near future announcing these project selections. Assistance is available to private operators of over-the-road buses used substantially or exclusively in intercity, fixed route, over-the-road bus service, and to private operators of over-the-road buses in other services, such as charter, tour, and commuter service. Capital projects eligible for funding include projects to add lifts and other accessibility components to new vehicle purchases and to purchase lifts to retrofit existing vehicles. Eligible training costs include developing training materials or providing training for local providers of over-the-road bus services.

3. Period of Availability

FTA has observed that some private operators selected to receive funding under this program have not acted promptly to obligate the funds in a grant and request reimbursement for expenditures. While the program does not have a statutory period of availability, as of this Notice FTA is limiting the period of availability to a selected operator to three years, which includes the year of allocation, plus two additional years. Funds for project selections announced in FY 2008 will be reallocated if not obligated in a grant by September 30, 2010. Funds for projects selected in FY 2006 or prior years will be reallocated in FY 2009 if not obligated in a grant by September 30, 2008.

4. Other Program or Apportionment Related Information and Highlights

FTA is currently evaluating proposals submitted in response to the FY 2007 solicitation and will publish successful applicants for FY 2007 and FY 2008 funding in the Federal Register in the second quarter of FY 2008. The notice will be available at http://www.fta.dot.gov/laws/leg_reg_federal_register.html/.

V. FTA Policy and Procedures for FY 2008 Grants Requirements

A. Automatic Pre-Award Authority to Incur Project Costs

1. Caution to New Grantees. While we provide pre-award authority to incur expenses prior to grant award for many projects, we recommend that first-time grant recipients NOT utilize this automatic pre-award authority and wait until the grant is actually awarded by FTA before incurring costs. As a new grantee, it is easy to misunderstand pre-award authority conditions and not be aware of all of the applicable FTA requirements that must be met in order to be reimbursed for project expenditures incurred in advance of grant award. FTA programs have specific statutory requirements that are often different from those for other Federal grant programs with which new grantees may be familiar. If funds are expended for an ineligible project or activity, FTA will be unable to reimburse the project sponsor and, in certain cases, the entire project may be rendered ineligible for FTA assistance.

2. Policy. FTA provides pre-award authority to incur expenses prior to grant award for certain program areas described below. This pre-award authority allows grantees to incur certain project costs prior to grant approval and retain the eligibility of those costs for subsequent reimbursement after grant approval. The grantee assumes all risk and is responsible for ensuring that all conditions are met to retain eligibility. This pre-award spending authority permits a grantee to incur costs on an eligible transit capital, operating, planning, or administrative project without prejudice to possible future Federal participation in the cost of the project. In the Federal Register Notice of November 30, 2006, FTA extended pre-award authority for capital assistance under all formula programs through FY 2009, the duration of SAFETEA-LU. FTA provides pre-award authority for planning and operating assistance under the formula programs without regard to the period of the authorization. In addition, we extend pre-award authority for certain discretionary programs based on the annual Appropriations Act each year. All pre-award authority is subject to conditions and triggers stated below:

a. FTA does not impose additional conditions on pre-award authority for operating, planning, or administrative assistance under the formula grant programs. Grantees may be reimbursed for expenses incurred prior to grant award so long as funds have been expended in accordance with all Federal requirements. In addition to cross-cutting Federal grant requirements, program specific requirements must be met. For example, a planning project must have been included in a Unified Planning Work Program (UPWP); a New Freedom operating assistance project or a JARC planning or operating project must have been derived from a coordinated public transit-human services transportation plan (coordinated plan) and competitively selected by the Designated Recipient prior to incurring expenses; expenditure on State Administration expenses under State Administered programs must be consistent with the State Management Plan. Designated Recipients for JARC and New Freedom have pre-award authority for the ten percent of the apportionment they may use for program administration, if the use is consistent with their Program Management Plan.

b. Pre-Award authority for Alternatives Analysis planning projects under 49 U.S.C. 5339, as amended by SAFETEA-LU, is triggered by the publication of the allocation in FTA's Federal Register Notice of Apportionments and Allocations following the annual Appropriations Act, or announcement of additional discretionary allocations, as happened in FY 2007. The projects must be included in the UPWP of the MPO for that metropolitan area.

c. Pre-award authority for design and environmental work on a capital project is triggered by the authorization of formula funds, or the appropriation of funds for a discretionary project.

d. Following authorization of formula funds or appropriation and publication of discretionary projects, pre-award authority for capital project implementation activities including property acquisition, demolition, construction, and acquisition of vehicles, equipment, or construction materials is triggered by completion of the environmental review process with FTA's concurrence in the categorical exclusion (CE) determination or signing of an environmental Record of Decision (ROD) or Finding of No Significant Impact (FONSI). Prior to exercising pre-award authority, grantees must comply with the conditions and Federal requirements outlined in paragraph 3 below. Failure to do so will render an otherwise eligible project ineligible for FTA financial assistance. Capital projects under the section 5310, JARC, and New Freedom programs must comply with specific program requirements, including coordinated planning and competitive selection. In addition, prior to incurring costs, grantees are strongly encouraged to consult with the appropriate FTA regional office regarding the eligibility of the project for future FTA funds and the applicability of the conditions and Federal requirements.

e. Pre-award authority applies to the section 5309 Capital Investment Bus and Bus-Related Facilities, the Clean Fuels Bus program, high priority project designations, and any other transit discretionary projects designated in SAFETEA-LU only AFTER funds have been appropriated. Thus pre-award authority is extended now only for FY 2006, FY 2007, and FY 2008 project funding in these programs. For section 5309 Capital Investment Bus and Bus-Related, Clean Fuels Program, or other transit capital discretionary projects such as those designated in an annual Appropriations Act, the date that costs may be incurred is: (1) For design and environmental review, the appropriations bill which funds the project was enacted; and (2) for property acquisition, demolition, construction, and acquisition of vehicles, equipment, or construction materials, the date that FTA approves the document (ROD, FONSI, or CE determination) that completes the environmental review process required by the National Environmental Policy Act (NEPA) and its implementing regulations. FTA introduced this new trigger for pre-award authority in FY 2006 in recognition of the growing prevalence of new grantees unfamiliar with Federal and FTA requirements to ensure FTA's continued ability to comply with NEPA and related environmental laws. Because FTA does not sign a final NEPA document until MPO and statewide planning requirements (including air quality conformity requirements, if applicable) have been satisfied, this new trigger for pre-award will ensure compliance with both planning and environmental requirements prior to irreversible action by the grantee.

f. In previous notices FTA extended pre-award authority to section 330 projects and those surface transportation projects commonly referred to as section 115 projects administered by FTA, for which amounts were provided in the Consolidated Appropriations Act, 2004, section 117 projects in the 2005 Appropriations Act, and section 112 of the 2006 Appropriations Act that are to be administered by FTA. FTA in this Notice extends pre-award authority to transit projects included in the Consolidated Appropriations Act, 2008, or high priority projects in SAFETEA-LU, as of the date they are transferred or allotted to FTA for administration. The same conditions described for bus projects apply to these projects. We strongly encourage any prospective applicant that does not have a previous relationship with FTA to review Federal grant requirements with the FTA regional office before incurring costs.

g. Blanket pre-award authority does not apply to section 5309 Capital Investment New Starts funds. Specific instances of pre-award authority for Capital Investment New Starts projects are described in paragraph 4 below. Pre-award authority does not apply to Capital Investment Bus and Bus-Related or Clean Fuels projects authorized for funding beyond this fiscal year. Before an applicant may incur costs for Capital Investment New Starts projects, Bus and Bus-Related projects, or any other projects not yet published in a notice of apportionments and allocations, it must first obtain a written Letter of No Prejudice (LONP) from FTA. To obtain an LONP, a grantee must submit a written request accompanied by adequate information and justification to the appropriate FTA regional office, as described below.

3. Conditions. The conditions under which pre-award authority may be utilized are specified below:

a. Pre-award authority is not a legal or implied commitment that the subject project will be approved for FTA assistance or that FTA will obligate Federal funds. Furthermore, it is not a legal or implied commitment that all items undertaken by the applicant will be eligible for inclusion in the project.

b. All FTA statutory, procedural, and contractual requirements must be met.

c. No action will be taken by the grantee that prejudices the legal and administrative findings that the Federal Transit Administrator must make in order to approve a project.

d. Local funds expended by the grantee pursuant to and after the date of the pre-award authority will be eligible for credit toward local match or reimbursement if FTA later makes a grant or grant amendment for the project. Local funds expended by the grantee prior to the date of the pre-award authority will not be eligible for credit toward local match or reimbursement. Furthermore, the expenditure of local funds on activities such as land acquisition, demolition, or construction prior to the date of pre-award authority for those activities (i.e., the completion of the NEPA process) would compromise FTA's ability to comply with Federal environmental laws and may render the project ineligible for FTA funding.

e. The Federal amount of any future FTA assistance awarded to the grantee for the project will be determined on the basis of the overall scope of activities and the prevailing statutory provisions with respect to the Federal/local match ratio at the time the funds are obligated.

f. For funds to which the pre-award authority applies, the authority expires with the lapsing of the fiscal year funds.

g. When a grant for the project is subsequently awarded, the Financial Status Report, in TEAM-Web, must indicate the use of pre-award authority.

h. Environmental, Planning, and Other Federal Requirements.

All Federal grant requirements must be met at the appropriate time for the project to remain eligible for Federal funding. The growth of the Federal transit program has resulted in a growing number of inexperienced grantees who make compliance with Federal planning and environmental laws increasingly challenging. FTA has therefore modified its approach to pre-award authority to use the completion of the NEPA process, which has as a prerequisite the completion of planning and air quality requirements, as the trigger for pre-award authority for all activities except design and environmental review.

i. The requirement that a project be included in a locally adopted metropolitan transportation plan, the metropolitan transportation improvement program and Federally-approved statewide transportation improvement program (23 CFR part 450) must be satisfied before the grantee may advance the project beyond planning and preliminary design with non-Federal funds under pre-award authority. If the project is located within an EPA-designated non-attainment area for air quality, the conformity requirements of the Clean Air Act, 40 CFR part 93, must also be met before the project may be advanced into implementation-related activities under pre-award authority. Compliance with NEPA and other environmental laws and executive orders (e.g., protection of parklands, wetlands, and historic properties) must be completed before State or local funds are spent on implementation activities, such as site preparation, construction, and acquisition, for a project that is expected to be subsequently funded with FTA funds. The grantee may not advance the project beyond planning and preliminary design before FTA has determined the project to be a categorical exclusion, or has issued a finding of no significant impact (FONSI) or an environmental record of decision (ROD), in accordance with FTA environmental regulations, 23 CFR part 771. For planning projects, the project must be included in a locally-approved Unified Planning Work Program (UPWP) that has been coordinated with the State.

j. In addition, Federal procurement procedures, as well as the whole range of applicable Federal requirements (e.g., Buy America, Davis-Bacon Act, Disadvantaged Business Enterprise) must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

4. Pre-Award Authority for New Starts Projects.

a. Preliminary Engineering (PE) and Final Design (FD). Projects proposed for section 5309 New Starts funds are required to follow a Federally defined New Starts project development process. This New Starts process includes, among other things, FTA approval of the entry of the project into PE and into FD. In accordance with section 5309(d), FTA considers the merits of the project, the strength of its financial plan, and its readiness to enter the next phase in deciding whether or not to approve entry into PE or FD. Upon FTA approval to enter PE, FTA extends pre-award authority to incur costs for PE activities. Upon FTA approval to enter FD, FTA extends pre-award authority to incur costs for FD activities. The pre-award authority for each phase is automatic upon FTA's signing of a letter to the project sponsor approving entry into that phase. PE and FD are defined in the New Starts regulation entitled Major Capital Investment Projects, found at 49 CFR part 611.

b. Real Property Acquisition Activities. FTA extends automatic pre-award authority for the acquisition of real property and real property rights for a New Starts project upon completion of the NEPA process for that project. The NEPA process is completed when FTA signs an environmental Record of Decision (ROD) or Finding of No Significant Impact (FONSI), or makes a Categorical Exclusion (CE) determination. With the limitations and caveats described below, real estate acquisition for a New Starts project may commence, at the project sponsor's risk, upon completion of the NEPA process.

For FTA-assisted projects, any acquisition of real property or real property rights must be conducted in accordance with the requirements of the Uniform Relocation Assistance and Real Property Acquisition Policies Act (URA) and its implementing regulations, 49 CFR part 24. This pre-award authority is strictly limited to costs incurred: (i) To acquire real property and real property rights in accordance with the URA regulation, and (ii) to provide relocation assistance in accordance with the URA regulation. This pre-award authority is limited to the acquisition of real property and real property rights that are explicitly identified in the final environmental impact statement (FEIS), environmental assessment (EA), or CE document, as needed for the selected alternative that is the subject of the FTA-signed ROD or FONSI, or CE determination. This pre-award authority does not cover site preparation, demolition, or any other activity that is not strictly necessary to comply with the URA, with one exception. That exception is when a building that has been acquired, has been emptied of its occupants, and awaits demolition poses a potential fire-safety hazard or other hazard to the community in which it is located, or is susceptible to reoccupation by vagrants. Demolition of the building is also covered by this pre-award authority upon FTA's written agreement that the adverse condition exists.

Pre-award authority for property acquisition is also provided when FTA makes a CE determination for a protective buy or hardship acquisition in accordance with 23 CFR 771.117(d)(12), and when FTA makes a CE determination for the acquisition of a pre-existing railroad right-of-way in accordance with 49 U.S.C. 5324(c). When a tiered environmental review in accordance with 23 CFR 771.111(g) is being used, pre-award authority is NOT provided upon completion of the first-tier environmental document except when the Tier-1 ROD or FONSI signed by FTA explicitly provides such pre-award authority for a particular identified acquisition.

Project sponsors should use pre-award authority for real property acquisition and relocation assistance very carefully, with a clear understanding that it does not constitute a funding commitment by FTA. FTA provides pre-award authority upon completion of the NEPA process to maximize the time available to project sponsors to move people out of their homes and places of business, in accordance with the requirements of the Uniform Relocation Act, but also with maximum sensitivity to the plight of the people so affected. Although FTA provides pre-award authority for property acquisition upon completion of the NEPA process, FTA will not make a grant to reimburse the sponsor for real estate activities conducted under pre-award authority until the project has been approved into FD. Even if funds have been appropriated for the project, the timing of an actual grant for property acquisition and related activities must await FD approval to ensure that Federal funds are not risked on a project whose advancement beyond PE is still not yet assured.

c. National Environmental Policy Act (NEPA) Activities. NEPA requires that major projects proposed for FTA funding assistance be subjected to a public and interagency review of the need for the project, its environmental and community impacts, and alternatives to avoid and reduce adverse impacts. Projects of more limited scope also need a level of environmental review, either to support an FTA finding of no significant impact (FONSI) or to demonstrate that the action is categorically excluded from the more rigorous level of NEPA review.

FTA's regulation titled “Environmental Impact and Related Procedures,” at 23 CFR part 771 states that the costs incurred by a grant applicant for the preparation of environmental documents requested by FTA are eligible for FTA financial assistance (23 CFR 771.105(e)). Accordingly, FTA extends pre-award authority for costs incurred to comply with NEPA regulations and to conduct NEPA-related activities for a proposed New Starts or Small Starts project, effective as of the date of the Federal approval of the relevant STIP or STIP amendment that includes the project or any phase of the project. NEPA-related activities include, but are not limited to, public involvement activities, historic preservation reviews, section 4(f) evaluations, wetlands evaluations, endangered species consultations, and biological assessments. This pre-award authority is strictly limited to costs incurred to conduct the NEPA process, and to prepare environmental, historic preservation and related documents. It does not cover PE activities beyond those necessary for NEPA compliance.

For many FTA programs, costs incurred by a grant applicant exercising pre-award authority in the preparation of environmental documents required by FTA are eligible for FTA reimbursement (See also 23 CFR 771.105(e)). FTA assistance for environmental documents for New Starts and Small Starts projects, however, is subject to certain restrictions. Under SAFETEA-LU, section 5309 New Starts funds cannot be used for any activity, including a NEPA-related activity that occurs prior to the approval of a New Starts project into PE or a Small Starts project into Project Development (PD). Section 5339 (Alternatives analysis program), section 5307 (Urban Formula program) and flexible highway funds are available for NEPA work conducted prior to PE approval (for New Starts) or PD approval (for Small Starts). Section 5309 New Starts funds, however, as well as section 5307 (Urban Formula program) and flexible highway funds, can be used for NEPA work conducted after PE approval (for New Starts) or PD approval (for Small Starts). NEPA-related activities include, but are not limited to, public involvement activities, historic preservation reviews, section 4(f) evaluations, wetlands evaluations, endangered species consultations, and biological assessments. As with any pre-award authority, FTA reimbursement for costs incurred is not guaranteed.

d. Other New Starts Activities Requiring Letter of No Prejudice (LONP). Except as discussed in paragraphs a) through c) above, a grant applicant must obtain a written LONP from FTA before incurring costs for any activity expected to be funded by New Start funds not yet awarded. To obtain an LONP, an applicant must submit a written request accompanied by adequate information and justification to the appropriate FTA regional office, as described in B below.

5. Pre-Award Authority for Small Starts. When FTA issues a Project Development approval letter for a Small Starts project, FTA grants pre-award authority for the engineering and design activities necessary to complete NEPA. Upon FTA's issuance of a Record of Decision (ROD), a Finding of No Significant Impact (FONSI), or a Categorical Exclusion (CE) determination, pre-award authority is granted to incur costs for all other project engineering activities including right-of-way acquisition and utility relocation. When FTA issues a Project Construction Grant Agreement (PCGA), FTA grants pre-award authority for the construction phase of the project. Pre-award authority for NEPA-related work on a Small Starts project is described in paragraph 4.c above. Pre-award authority for real property acquisition activities for a Small Starts project is granted under the same conditions and for the same reasons as for New Starts projects, as described in paragraph 4.b above.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for section 5309 New Starts or Small Starts funds not covered under a full funding grant agreement (FFGA) or PCGA, or for section 5309 Bus and Bus-Related projects authorized but not yet appropriated by Congress. At the end of an authorization period, LONPs may be issued for formula funds beyond the life of the current authorization or FTA's extension of automatic pre-award authority.

2. Conditions and Federal Requirements

The conditions for pre-award authority specified in section VIII A2 above apply to all LONPs. The Environmental, Planning and Other Federal Requirements described in section V.A.3, also apply to all LONPs. Because project implementation activities may not be initiated prior to NEPA completion, FTA will not issue an LONP for such activities until the NEPA process has been completed with a ROD, FONSI, or Categorical Exclusion determination.

3. Request for LONP

Before incurring costs for a project not covered by automatic pre-award authority, the project sponsor must first submit a written request for an LONP, accompanied by adequate information and justification, to the appropriate regional office and obtain written approval from FTA. FTA approval of an LONP for a New Starts or Small Starts project is determined on a case-by-case basis. As a prerequisite to FTA approval of an LONP for a New Starts or Small Starts project, FTA will require project sponsors to demonstrate project worthiness and readiness that establish the project as a promising candidate for an FFGA or PCGA. For New Starts projects, this usually cannot be determined prior to the project's approval to enter final design. However, there may be limited instances where LONP requests prior to entry into final design are approved, if strongly justified. Projects will be assessed based upon the criteria considered in the New Start evaluation process. Specifically, when requesting an LONP, the applicant shall provide sufficient information to allow FTA to consider the following items:

a. Description of the activities to be covered by the LONP.

b. Justification for advancing the identified activities. The justification should include an accurate assessment of the consequences to the project scope, schedule, and budget should the LONP not be approved.

c. Data that indicates that the project will maintain its ability to receive a rating of “medium”, or better and that its cost-effectiveness rating will be “medium” or better, unless such project has been specifically exempted from such a requirement.

d. Allocated level of risk and contingency for the activity requested.

e. Status of procurement progress, including, if appropriate, submittal of bids for the activities covered by the LONP.

f. Strength of the capital and operating financial plan for the New Starts project and the future transit system.

g. Adequacy of the Project Management Plan.

h. Resolution of any readiness issues that would affect the project, such as land acquisition and technical capacity to carry out the project.

C. FTA FY 2008 Annual List of Certifications and Assurances

The full text of the FY 2008 Certifications and Assurances was published in the Federal Register on October 25, 2007, and is available on the FTA Web site and in TEAM-Web. The FY 2008 Certifications and Assurances must be used for all grants made in FY 2008, including obligation of carryover. All grantees with active grants were required to have signed the FY 2008 Certifications and Assurances within 90 days after publication. Any questions regarding this document may be addressed to the appropriate Regional Office or to Nydia Picayo, in the FTA Office of Program Management, at (202) 366-1662.

D. FHWA Funds Used for Transit Purposes

SAFETEA-LU continues provisions in the Intermodal Surface Transportation Efficiency Act of 1991 (ISTEA) and TEA-21 that expanded modal choice in transportation funding by including substantial flexibility to transfer funds between FTA and FHWA formula program funding categories. In addition, SAFETEA-LU included a provision allowing for transfer of certain discretionary program funds for administration of highway projects by FHWA and transit projects by FTA. FTA and FHWA execute Flex Funding Transfers between the Formula and Bus Grants Transit programs and the Federal Aid Highway programs. This has also included the transfer of State planning set-aside funds from FHWA to FTA to be combined with metropolitan and statewide planning resources as Consolidated Planning Grants (CPG). These transfers are based on States requests to transfer funding from the Highway and/or Transit programs to fund States and local project priorities, and joint planning needs. This practice can result in transfers to the Federal Transit Program from the Federal Aid Highway Program or vice versa.

1. Transfer Process for Funds

SAFETEA-LU was enacted in August, 2005. With the enactment of SAFETEA-LU, beginning in FY2006, public transit programs are funded solely from general funds or trust funds. The transit formula and bus grant programs are now funded from the Mass Transit Account of the Highway Trust Fund. The Formula and Bus Grant Programs receives flex funding transfers from the Federal Aid Highway Program.

As a result of the changes to program funding mechanisms, there is no longer a requirement to transfer budget authority and liquidating cash resources simultaneously upon the execution of a Flex Funding transfer request by a State. Since the transfers are between trust fund accounts, the only requirement is to transfer budget authority (obligation limitation) between the Federal Aid Program trust fund account and the Federal Transit Formula and Bus Grant Program account. At the point in time that the obligation resulting from the transfer of budgetary authority is expended, a transfer of liquidating cash will be required.

Beginning in FY 2007, the accounting process was changed for transfers of flex funds and other specific programs to allow budget authority to be transferred and the cash to be transferred separately. FTA requires that flexed fund transfers to FTA be in separate and identifiable grants in order to ensure that the draw-down of flexed funds can be tracked, thus securing the internal controls for monitoring these resources from the Federal Highway Administration to avoid deficiencies in FTA's Formula and Bus Grants account.

FTA will need to monitor the expenditures of flexed funded grants and request the transfer of liquidating cash from FHWA to ensure sufficient funds are available to meet expenditures. To facilitate tracking of grantees” flex funding expenditures, FTA developed codes to provide distinct identification of “flex funds.”

The process for transferring flexible funds between FTA and FHWA programs is described below. Note that the new transfer process for “flex funds” that began in FY 2007 does not apply to the transfer of State planning set-aside funds from FHWA to FTA to be combined with metropolitan and statewide planning resources as Consolidated Planning Grants (CPG). These transfers are based on States requests to transfer funding from the Highway and/or Transit programs to fund States and local project priorities, and joint planning needs. Planning funds transferred will be allowed to be merged in a single grant with FTA planning resources using the same process implemented in FY 2006. For information on the process for the transfer of funds between FTA and FHWA planning programs refer to section IV.A and B. Note also that certain prior year appropriations earmarks (sections 330, 115, 117, and 112) are allotted annually for administration rather than being transferred. For information regarding these procedures, please contact Kristen D. Clarke, FTA Budget Office, at (202) 366-1686; or FHWA Budget Division, at (202) 366-2845.

a. Transfer From FHWA to FTA

FHWA funds can only be designated for use in transit capital projects that emanate or come out of the metropolitan and statewide planning and programming process. The project must be included in an approved STIP before the funds can be transferred. By letter, the State DOT requests the FHWA Division Office to transfer highway funds for a transit project. The letter should specify the project, amount to be transferred, apportionment year, State, urbanized area, Federal aid apportionment category (i.e., Surface Transportation Program (STP), Congestion Mitigation and Air Quality (CMAQ) or identification of the earmark and indication of the intended FTA formula program (i.e., section 5307, 5311 or 5310) and should include a description of the project as contained in the STIP. Note that FTA may also administer certain transfers of statutory earmarks under the section 5309 bus program, for tracking purposes.

The FHWA Division Office confirms that the apportionment amount is available for transfer and concurs in the transfer, by letter to the State DOT and FTA. The FHWA Office of Budget and Finance then transfers obligation authority. All FHWA CMAQ and STP funds transferred to FTA will be transferred to one of the three FTA formula programs (i.e. Urbanized Area Formula (section 5307), Nonurbanized Area Formula (section 5311) or Elderly and Persons with Disabilities (section 5310). High Priority projects in SAFETEA-LU Section 1702 or Transportation Improvement projects in SAFETEA-LU section 1934 and other Congressional earmarks when necessary that are transferred to FTA will be aligned and administered through FTA's discretionary Bus Program (section 5309).

The FTA grantee's application for the project must specify which program the funds will be used for, and the application must be prepared in accordance with the requirements and procedures governing that program. Upon review and approval of the grantee's application, FTA obligates funds for the project.

Transferred funds are treated as FTA formula or discretionary funds, but are assigned a distinct identifying code for tracking purposes. The funds may be transferred for any capital purpose eligible under the FTA formula program to which they are transferred and, in the case of CMAQ, for certain operating costs. FHWA issued revised interim guidance on project eligibility under the CMAQ program in a Notice at 71 FR 76038 et seq. (December 19, 2006) incorporating changes made by SAFETEA-LU. In accordance with 23 U.S.C. 104(k), all FTA requirements except local share are applicable to transferred funds except in certain cases when CMAQ funds are authorized for operating expenses. Earmarks that are transferred to the section 5309 Bus Program for administration, however, can be used for the Congressionally designated transit purpose and are not limited to eligibility under the Bus Program.

In the event that transferred formula funds are not obligated for the intended purpose within the period of availability of the formula program to which they were transferred, they become available to the Governor for any eligible capital transit project. Earmarked funds, however, can only be used for the Congressionally designated purpose.

b. Transfers From FTA to FHWA

The MPO submits a written request to the FTA regional office for a transfer of FTA section 5307 formula funds (apportioned to a UZA 200,000 and over in population) to FHWA based on approved use of the funds for highway purposes, as determined by the designated recipient under section 5307 and contained in the Governor's approved State Transportation Improvement Program. The MPO must certify that: (1) Notice and opportunity for comment and appeal has been provided to affected transit providers; (2) the funds are not needed for capital investments required by the Americans with Disabilities Act, and (3) local transit needs are being addressed. The FTA Regional Administrator reviews and concurs in the request, then forwards the approval in written format to FTA Headquarters, where a reduction equal to the dollar amount being transferred to FHWA is made to the grantee's Urbanized Area Formula Program apportionment.

Transfers of discretionary earmarks for administration by FHWA are handled on a case by case basis, by the FTA regional office, in consultation with the FTA Office of Program Management and Office of Budget and Policy.

c. Matching Share for FHWA Transfers

The provisions of Title 23 U.S.C. regarding the non-Federal share apply to Title 23 funds used for transit projects. Thus, FHWA funds transferred to FTA retain the same matching share that the funds would have if used for highway purposes and administered by FHWA.

There are four instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Second, commuter carpooling and vanpooling projects and transit safety projects using FHWA transfers administered by FTA may retain the same 100 percent Federal share that would be allowed for ride-sharing or safety projects administered by FHWA.

The third instance is the 100 percent Federally-funded safety projects; however, these are subject to a nationwide 10 percent program limitation.

The fourth instance occurs with CMAQ funds. H.R. 6, The Energy Independence and Security Act, 2007, increased the federal share of CMAQ projects to 100% at the State's discretion. FTA will honor this increased match for CMAQ funds transferred to FTA for implementation if the state chooses to fund the project at a higher federal share than 80 percent. The federal share for CMAQ projects cannot be lower than 80 percent.

d. Miscellaneous Transit Earmarks in FHWA Programs

The FY 2002 and FY 2003 Appropriations Acts and accompanying reports included section 330, which identified a number of transit projects among projects designated to receive funding from certain FHWA funding sources. The FY 2004 Appropriations Act similarly included transit projects among projects designated to receive funding from certain FHWA sources in section 115, the FY 2005 Appropriations Act included a set of designations under section 117, and the FY 2006 Appropriations Act included designations under section 112, which may include some projects that FHWA will identify to be administered by FTA. For those projects identified by FHWA as transit in nature, FHWA allots the funds to FTA to administer. The funds are available for the designated project until obligated and expended. Some of these FY 2002-2006 designations for transit projects have not yet been obligated. However, because these are FHWA funds, funds for projects unobligated at the end of the fiscal year are not automatically available as carry over made available in the following fiscal year. Instead FHWA re-allots obligation authority to FTA annually, after reconciling account balances. Because the requirements and procedures associated with these projects differ in some cases from those for the FTA programs that FTA grantees are familiar with, and the availability of funds for obligation by FTA depends on allotments from FHWA, transit applicants seeking funding under these miscellaneous FHWA designations must work closely with the appropriate FTA regional office and FHWA Division Office when applying for a grant under these designations.

E. Grant Application Procedures

1. Grantees must provide a Dun and Bradstreet (D&B) Data Universal Numbering System (DUNS) number for inclusion in all applications for a Federal grant or cooperative agreement. The DUNS number should be entered into the grantee profile in TEAM-Web. Additional information about this and other Federal grant streamlining initiatives mandated by the Federal Financial Assistance Management Improvement Act of 1999 (Pub. L. 106-107) can be accessed on OMB's Web site at http://www.whitehouse.gov/omb/grants/reform.html.

2. All applications for FTA funds should be submitted electronically to the appropriate FTA regional office through TEAM-Web, an Internet-accessible electronic grant application system. FTA has provided limited exceptions to the requirement for electronic filing of applications.

3. In FY 2008, FTA remains committed to processing applications promptly upon receipt of a completed application by the appropriate regional office. In order for an application to be considered complete and for FTA to assign a grant number, enabling submission in TEAM-Web, the following requirements must be met:

a. The project is listed in a currently FTA approved Metropolitan Transportation Plan, Metropolitan Transportation Improvement Program (TIP); Statewide Transportation Improvement Program (STIP), or Unified Planning Work Program (UPWP).

b. All eligibility issues have been resolved.

c. Required environmental findings have been made.

d. The project budget's Activity Line Items (ALI), scope, and project description meet FTA requirements.

e. Local share funding source(s) have been identified.

f. The grantee's required Civil Rights submissions are current.

g. Certifications and assurances are properly submitted.

h. Funding is available, including any flexible funds included in the budget.

i. For projects involving new construction (using at least $100 million in New Starts or formula funds), FTA engineering staff has reviewed the project management plan and given approval.

j. When required for grants related to New Starts projects, PE and/or FD has been approved.

k. Milestone information is complete, or FTA determines that milestone information can be finalized before the grant is ready for award. The grant must include sufficient milestones appropriate to the scale of the project to allow adequate oversight to monitor the progress of projects from the start through completion and closeout.

4. Under most FTA programs, grants involving funding related to transit operations must be submitted to the Department of Labor for certification of labor protective arrangements, prior to grant award. In addition, before FTA can award grants for discretionary projects and activities designated by Congress, notification must be given to members of Congress, and in the case of awards greater than $500,000, to the House and Senate authorizing and appropriations committees three days prior to award. Discretionary grants allocated by FTA also go through the Congressional notification process if they are greater than $500,000. In previous years the amount requiring notification was $1 million; however, the Consolidated Appropriations Act, 2008, lowered the threshold for notification to $500,000 dollars.

5. Other important issues that impact FTA grant processing activities are discussed below.

a. Change in Budget Structure

Because SAFETEA-LU restructured FTA's accounts from all general funded accounts to one solely trust funded account and three general funded accounts, FTA does not mix funds from years prior to FY 2006 in the same grant with funds appropriated in FY 2006 and beyond (except for New Starts and research grants). Prior to FY 2006, all programs were funded approximately 80 percent trust funds from the Mass Transit Account (MTA) of the Highway Trust Fund and 20 percent General Funds from the U.S. Treasury. The trust funds were transferred into the general funded accounts at the beginning of the year. Under SAFETEA-LU most programs are funded entirely from trust funds derived from the Mass Transit Account, while the New Starts and Research programs are funded with general funds. For a New Starts or research project, carryover FY 2005 and prior year funds currently available for obligation, as well as, FY 2006, FY 2007, and FY 2008 funds may be included in an amendment to an existing grant.

For formula programs funded solely from trust funds beginning in FY2006, grantees may not combine funds appropriated since FY 2006 in the same grant with FY 2005 and prior year funds. Grant amendments cannot be made to add FY 2006 and later year funds to a grant that includes FY 2005 or prior funds. Obligations of FY 2005 and prior year carryover funds must be made in the original program accounts established under TEA-21 (either as an amendment to an existing grant or as a new grant) and cannot be combined with funds appropriated in FY 2006 or later. However, grantees are able to amend new grants established with FY 2006 or later year funds to add funds made available after FY 2006. We regret any inconvenience this accounting change may cause as we implement new statutory requirements under SAFETEA-LU. We encourage grantees to spend down and close out old grants as quickly as possible to minimize the inconvenience.

b. Grant Budgets—SCOPE and Activity Line Item (ALI) Codes

FTA uses the SCOPE and Activity Line Item (ALI) Codes in the grant budgets to track program trends, to report to Congress, and to respond to requests from the Inspector General and the Government Accountability Office (GAO), as well as to manage grants. The accuracy of the data is dependent on the careful and correct use of codes. As needed, we revise the SCOPE and ALI table to include new codes for newly eligible capital items, to better track certain expenditures, and to accommodate new or modified programs. We encourage grantees to review the table before selecting codes from the drop-down menus in TEAM-Web while creating a grant budget and to consult with the regional office in the correct use of codes.

c. Earmark and Discretionary Program Tracking

FTA has implemented procedures in TEAM-Web for matching grants to earmarks or projects selected by FTA under discretionary programs. Each earmark or selected discretionary project published in the Federal Register is associated with a unique identifier. Tables of earmarks and selected discretionary projects have also been established in TEAM-Web. When applying for a grant using funding designated by Congress or FTA for a particular project, grantees are asked to identify the amount of funding associated with each specific earmark or discretionary project used in the grant. Further instructions are posted on the TEAM-Web site and regional staff can provide additional assistance.

d. New Freedom and JARC—Administering Agency

The Governor must designate the state agency or agencies charged with administering the New Freedom and JARC formula programs and the recipient(s) designated to administer the program in each large urbanized area before FTA can award a grant to that State or large urbanized area. FTA will award grants for these programs only to the Designated Recipient for JARC or New Freedom, or, in the case of a large urbanized area, pursuant to a supplemental agreement with the Designated Recipient for JARC or New Freedom, to another entity that is the Designated Recipient for the section 5307 program. For Small Urbanized areas (under 200,000 population), the State Designated Recipient can transfer funds to the section 5307 program for FTA to award direct grants to small urbanized area recipients.

F. Payments

Once a grant has been awarded and executed, requests for payment can be processed. To process payments FTA uses ECHO-Web, an Internet accessible system that provides grantees the capability to submit payment requests on-line, as well as receive user-IDs and passwords via e-mail. New applicants should contact the appropriate FTA regional office to obtain and submit the registration package necessary for set-up under ECHO-Web.

G. Oversight

FTA conducts periodic oversight reviews to assess grantee compliance with Federal requirements. Each urbanized area grantee is reviewed every three years (a Triennial Review). Triennial reviews have been modified to look at the grantee's involvement in the coordinated planning for transportation for the populations targeted by the JARC and New Freedom programs and participation in delivery of specialized services under those programs in the urbanized area. States are reviewed periodically for their management of the section 5310, 5311, JARC, and New Freedom programs. Other more detailed reviews are scheduled based on an annual grantee risk assessment, for example, reviews in the areas of Procurement, Financial Management, Safety and Civil Rights.

H. Technical Assistance

FTA headquarters and regional staff will be pleased to answer your questions and provide any technical assistance you may need to apply for FTA program funds and manage the grants you receive. This notice and the program guidance circulars previously identified in this document may be accessed via the FTA Web site at http://www.fta.dot.gov.

In addition, copies of the following circulars and other useful information are available on the FTA Web site and may be obtained from FTA regional offices: 4220.1E, Third Party Contracting Requirements, dated June 19, 2003; and C5010.1C, Grant Management Guidelines, dated October 1, 1998. These circulars are currently being updated but remain effective until superseded by the new final circulars, expected to be issued during FY 2008. The FY 2008 Annual List of Certifications and Assurances and Master Agreement are also posted on the FTA Web site. The DOT final rule on “Participation by Disadvantaged Business Enterprises in Department of Transportation Financial Assistance Programs,” which was effective July 16, 2003, can be found at http://www.access.gpo.gov/nara/cfr/waisidx_04/49cfr26_04.html/.

Issued in Washington, DC, this 16th day of January, 2008.
James S. Simpson,
Administrator.

Appendix A

FTA Regional Offices
Richard H. Doyle, Regional Administrator, Region 1—Boston, Kendall Square, 55 Broadway, Suite 920, Cambridge, MA 02142-1093, Tel. 617 494-2055. | Robert C. Patrick, Regional Administrator, Region 6—Ft. Worth, 819 Taylor Street, Room 8A36, Ft. Worth, TX 76102, Tel. 817 978-0550.
States served: Connecticut, Maine, Massachusetts, New Hampshire, Rhode Island, and Vermont. | States served: Arkansas, Louisiana, Oklahoma, New Mexico and Texas.
Brigid Hynes-Cherin, Regional Administrator, Region 2—New York, One Bowling Green, Room 429, New York, NY 10004-1415, Tel. 212 668-2170. | Mokhtee Ahmad, Regional Administrator, Region 7—Kansas City, MO, 901 Locust Street, Room 404, Kansas City, MO 64106, Tel. 816 329-3920.
States served: New Jersey, New York. | States served: Iowa, Kansas, Missouri, and Nebraska.
Letitia Thompson, Regional Administrator, Region 3—Philadelphia, 1760 Market Street, Suite 500, Philadelphia, PA 19103-4124, Tel. 215 656-7100. | Terry Rosapep, Regional Administrator, Region 8—Denver, 12300 West Dakota Ave., Suite 310, Lakewood, CO 80228-2583, Tel. 720 963-3300.
States served: Delaware, Maryland, Pennsylvania, Virginia, West Virginia, and District of Columbia. | States served: Colorado, Montana, North Dakota, South Dakota, Utah, and Wyoming.
Yvette Taylor, Regional Administrator, Region 4—Atlanta, Atlanta Federal Center, Suite 17T50, 61 Forsyth Street SW., Atlanta, GA 30303, Tel. 404 562-3500. | Leslie T. Rogers, Regional Administrator, Region 9—San Francisco, 201 Mission Street, Room 2210, San Francisco, CA 94105-1926, Tel. 415 744-3133.
States served: Alabama, Florida, Georgia, Kentucky, Mississippi, North Carolina, Puerto Rico, South Carolina, Tennessee, and Virgin Islands. | States served: American Samoa, Arizona, California, Guam, Hawaii, Nevada, and the Northern Mariana Islands.
Marisol Simon, Regional Administrator, Region 5—Chicago, 200 West Adams Street, Suite 320, Chicago, IL 60606, Tel. 312 353-2789. | Rick Krochalis, Regional Administrator, Region 10—Seattle, Jackson Federal Building, 915 Second Avenue, Suite 3142, Seattle, WA 98174-1002, Tel. 206 220-7954.
States served: Illinois, Indiana, Michigan, Minnesota, Ohio, and Wisconsin. | States served: Alaska, Idaho, Oregon, and Washington.

BILLING CODE 4910-57-P

[FR Doc. 08-214 Filed 1-25-08; 8:45 am]

BILLING CODE 4910-57-C